DEPARTMENT OF HOUSING AND URBAN DEVELOPMENT

[Docket No. FR-4980-N-35]

Federal Property Suitable as Facilities To Assist the Homeless

AGENCY: Office of the Assistant Secretary for Community Planning and Development, HUD.

ACTION: Notice.

SUMMARY: This Notice identifies unutilized, underutilized, excess, and surplus Federal property reviewed by HUD for suitability for possible use to assist the homeless.

FOR FURTHER INFORMATION CONTACT: Kathy Ezzell, room 7266, Department of Housing and Urban Development, 451 Seventh Street SW., Washington, DC 20410; telephone (202) 708-1234; TTY number for the hearing- and speech-impaired (202) 708-2565 (these telephone numbers are not toll-free), or call the toll-free Title V information line at 1-800-927-7588.

SUPPLEMENTARY INFORMATION: In accordance with 24 CFR part 581 and section 501 of the Stewart B. McKinney Homeless Assistance Act (42 U.S.C. 11411), as amended, HUD is publishing this Notice to identify Federal buildings and other real property that HUD has reviewed for suitability for use to assist the homeless. The properties were reviewed using information provided to HUD by Federal landholding agencies regarding unutilized and underutilized buildings and real property controlled by such agencies or by GSA regarding its inventory of excess or surplus Federal property. This Notice is also published in order to comply with the December 12, 1988 Court Order in National Coalition for the Homeless v. Veterans Administration, No. 88-2503-OG (D.D.C.).

Properties reviewed are listed in this Notice according to the following categories: Suitable/available, suitable/unavailable, suitable/to be excess, and unsuitable. The properties listed in the three suitable categories have been reviewed by the landholding agencies, and each agency has transmitted to HUD: (1) Its intention to make the property available for use to assist the homeless, (2) its intention to declare the property excess to the agency's needs, or (3) a statement of the reasons that the property cannot be declared excess or made available for use as facilities to assist the homeless.

Properties listed as suitable/available will be available exclusively for homeless use for a period of 60 days from the date of this Notice. Where property is described as for “off-site use only” recipients of the property will be required to relocate the building to their own site at their own expense. Homeless assistance providers interested in any such property should send a written expression of interest to HHS, addressed to Heather Ranson, Division of Property Management, Program Support Center, HHS, room 5B-17, 5600 Fishers Lane, Rockville, MD 20857; (301) 443-2265. (This is not a toll-free number.) HHS will mail to the interested provider an application packet, which will include instructions for completing the application. In order to maximize the opportunity to utilize a suitable property, providers should submit their written expressions of interest as soon as possible. For complete details concerning the processing of applications, the reader is encouraged to refer to the interim rule governing this program, 24 CFR part 581.

For properties listed as suitable/to be excess, that property may, if subsequently accepted as excess by GSA, be made available for use by the homeless in accordance with applicable law, subject to screening for other Federal use. At the appropriate time, HUD will publish the property in a Notice showing it as either suitable/available or suitable/unavailable.

For properties listed as suitable/unavailable, the landholding agency has decided that the property cannot be declared excess or made available for use to assist the homeless, and the property will not be available.

Properties listed as unsuitable will not be made available for any other purpose for 20 days from the date of this Notice. Homeless assistance providers interested in a review by HUD of the determination of unsuitability should call the toll free information line at 1-800-927-7588 for detailed instructions or write a letter to Mark Johnston at the address listed at the beginning of this Notice. Included in the request for review should be the property address (including zip code), the date of publication in the Federal Register, the landholding agency, and the property number.

For more information regarding particular properties identified in this Notice (i.e., acreage, floor plan, existing sanitary facilities, exact street address), providers should contact the appropriate landholding agencies at the following addresses: Air Force: Ms. Kathryn M. Halvorson, Director, Air Force Real Property Agency, 1700 North Moore St., Suite 2300, Arlington, VA 22209-2802; (703) 696-5502; COE: Ms. Shirley Middleswarth, Army Corps of Engineers, Civil Division, Directorate of Real Estate, 441 G Street, NW., Washington, DC 20314-1000; (202) 761-7425; Coast Guard: Commandant, United States Coast Guard, Attn: Teresa Sheinberg, 2100 Second St., SW., Room 6109, Washington, DC 20593; (202) 267-6142; Energy: Mr. Andy Duran, Department of Energy, Office of Engineering & Construction Management, ME-90, 1000 Independence Ave, SW., Washington, DC 20585: (202) 586-4548; GSA: Mr. Brian K. Polly, Assistant Commissioner, General Services Administration, Office of Property Disposal, 18th and F Streets, NW., Washington, DC 20405; (202) 501-0084; Navy: Mr. Warren Meekins, Department of the Navy, Real Estate Services, Naval Facilities Engineering Command, Washington Navy Yard, 1322 Patterson Ave., SE., Suite 1000, Washington, DC 20374-5065; (202) 685-9305; VA: Ms. Amelia E. McLellan, Director, Real Property Service, Department of Veterans Affairs, 810 Vermont Avenue, NW., Room 419, Washington, DC 20420; (202) 565-5398; (These are not toll-free numbers).

Dated: August 25, 2005.
Mark R. Johnston,
Director, Office of Special Needs Assistance Programs.

Title V, Federal Surplus Property Program Federal Register Report For September 2, 2005

Suitable/Available Properties

Buildings (by State)

Alaska

Bldg. 7525

Elmendorf AFB

Elmendorf AFB AK 99506-

Landholding Agency: Air Force

Property Number: 18200230009

Status: Unutilized

Comment: 26,226 sq. ft., need rehab, possible asbestos/lead paint, most recent use—dormitory, off-site use only.

California

Federal Building

1125 I Street

Modesto Co: Stanislaus CA 95354-

Landholding Agency: GSA

Property Number: 54200510002

Status: Surplus

Comment: 23,770 sq. ft., needs upgrade, presence of asbestos/lead paint, listed on Natl Register of Historic Places, Federal tenants occupy a portion of bldg.

GSA Number: 9-G-CA-1576

Colorado

Bldg. 2

VAMC

2121 North Avenue

Grand Junction Co: Mesa CO 81501-

Landholding Agency: VA

Property Number: 97200430001

Status: Unutilized

Comment: 3298 sq. ft., needs major rehab, presence of asbestos/lead paint.

Bldg. 3

VAMC

2121 North Avenue

Grand Junction Co: Mesa CO 81501-

Landholding Agency: VA

Property Number: 97200430002

Status: Unutilized

Comment: 7275 sq. ft., needs major rehab, presence of asbestos/lead paint.

Georgia

Bldg. W0-3

West Point Lake

West Point Co: GA 31833-

Landholding Agency: COE

Property Number: 31200520001

Status: Unutilized

Comment: 7 x 7 gatehouse, off-site use only.

Hawaii

Bldg. 849

Bellows AFS

Bellows AFS HI

Landholding Agency: Air Force

Property Number: 18200330008

Status: Unutilized

Comment: 462 sq. ft., concrete storage facility.

Indiana

Bldg. 105, VAMC

East 38th Street

Marion Co: Grant IN 46952-

Landholding Agency: VA

Property Number: 97199230006

Status: Excess

Comment: 310 sq. ft., 1 story stone structure, no sanitary or heating facilities, Natl Register of Historic Places.

Bldg. 140, VAMC

East 38th Street

Marion Co: Grant IN 46952-

Landholding Agency: VA

Property Number: 97199230007

Status: Excess

Comment: 60 sq. ft., concrete block bldg., most recent use—trash house.

Bldg. 7

VA Northern Indiana Health Care System

Marion Campus, 1700 East 38th Street

Marion Co: Grant IN 46953-

Landholding Agency: VA

Property Number: 97199810001

Status: Underutilized

Comment: 16,864 sq. ft., presence of asbestos, most recent use—psychiatric ward, National Register of Historic Places.

Bldg. 10

VA Northern Indiana Health Care System

Marion Campus, 1700 East 38th Street

Marion Co: Grant IN 46953-

Landholding Agency: VA

Property Number: 97199810002

Status: Underutilized

Comment: 16,361 sq. ft., presence of asbestos, most recent use—psychiatric ward, National Register of Historic Places.

Bldg. 11

VA Northern Indiana Health Care System

Marion Campus, 1700 East 38th Street

Marion Co: Grant IN 46953-

Landholding Agency: VA

Property Number: 97199810003

Status: Underutilized

Comment: 16,361 sq. ft., presence of asbestos, most recent use—psychiatric ward, National Register of Historic Places.

Bldg. 18

VA Northern Indiana Health Care System

Marion Campus, 1700 East 38th Street

Marion Co: Grant IN 46953-

Landholding Agency: VA

Property Number: 97199810004

Status: Underutilized

Comment: 13,802 sq. ft., presence of asbestos, most recent use—psychiatric ward, National Register of Historic Places.

Bldg. 25

VA Northern Indiana Health Care System

Marion Campus, 1700 East 38th Street

Marion Co: Grant IN 46953-

Landholding Agency: VA

Property Number: 97199810005

Status: Unutilized

Comment: 32,892 sq. ft., presence of asbestos, most recent use—psychiatric ward, National Register of Historic Places.

Bldg. 1

N. Indiana Health Care System

Marion Co: Grant IN 46952-

Landholding Agency: VA

Property Number: 97200310001

Status: Unutilized

Comment: 20,287 sq. ft., needs extensive repairs, presence of asbestos, most recent use—patient ward.

Bldg. 3

N. Indiana Health Care System

Marion Co: Grant IN 46952-

Landholding Agency: VA

Property Number: 97200310002

Status: Unutilized

Comment: 20,550 sq. ft., needs extensive repairs, presence of asbestos, most recent use—patient ward.

Bldg. 4

N. Indiana Health Care System

Marion Co: Grant IN 46952-

Landholding Agency: VA

Property Number: 97200310003

Status: Unutilized

Comment: 20,550 sq .ft., needs extensive repairs, presence of asbestos, most recent use—patient ward.

Bldg. 13

N. Indiana Health Care System

Marion Co: Grant IN 46952-

Landholding Agency: VA

Property Number: 97200310004

Status: Unutilized

Comment: 8971 sq. ft., needs extensive repairs, presence of asbestos, most recent use—office.

Bldg. 19

N. Indiana Health Care System

Marion Co: Grant IN 46952-

Landholding Agency: VA

Property Number: 97200310005

Status: Unutilized

Comment: 12,237 sq. ft., needs extensive repairs, presence of asbestos, most recent use—office.

Bldg. 20

N. Indiana Health Care System

Marion Co: Grant IN 46952-

Landholding Agency: VA

Property Number: 97200310006

Status: Unutilized

Comment: 14,039 sq. ft., needs extensive repairs, presence of asbestos, most recent use—office/storage.

Bldg. 42

N. Indiana Health Care System

Marion Co: Grant IN 46952-

Landholding Agency: VA

Property Number: 97200310007

Status: Unutilized

Comment: 5025 sq. ft., needs extensive repairs, presence of asbestos, most recent use—office.

Bldg. 60

N. Indiana Health Care System

Marion Co: Grant IN 46952-

Landholding Agency: VA

Property Number: 97200310008

Status: Unutilized

Comment: 18,126 sq. ft., needs extensive repairs, presence of asbestos, most recent use—office.

Bldg. 122

N. Indiana Health Care System

Marion Co: Grant IN 46952-

Landholding Agency: VA

Property Number: 97200310009

Status: Unutilized

Comment: 37,135 sq. ft., needs extensive repairs, presence of asbestos, most recent use—dining hall/kitchen.

Kansas

Dwelling

Admin Area

Wilson Lake

Sylvan Grove Co: KS 67481-

Landholding Agency: COE

Property Number: 31200440001

Status: Excess

Comment: 1600 sq. ft. residence, off-site use only.

Dwelling

Admin Area

Wilson Lake

Sylvan Grove Co: KS 67481-

Landholding Agency: COE

Property Number: 31200440002

Status: Excess

Comment: 1600 sq. ft., storage, off-site use only.

Kentucky

Green River Lock & Dam #3

Rochester Co: Butler KY 42273-

Location: SR 70 west from Morgantown, KY., approximately 7 miles to site.

Landholding Agency: COE

Property Number: 31199010022

Status: Unutilized

Comment: 980 sq. ft.; 2 story wood frame; two story residence; potential utilities; needs major rehab.

Minnesota

Lakes Project Office

307 Main Street East

Remer Co: Cass MN

Landholding Agency: GSA

Property Number: 54200410015

Status: Surplus

Comment: Office bldg/oil shed/maintenance garage, minor water damage.

GSA Number: 5-D-MN-548-A

Missouri

Bldgs. 90A/B, 91A/B, 92A/B

Jefferson Barracks Housing

St. Louis MO 63125-

Landholding Agency: Air Force

Property Number: 18200220002

Status: Excess

Comment: 6450 sq. ft., needs repair, includes 2 acres.

Trailer

Gasconade Harbor Facility

Gasconade Co: MO 65036-

Landholding Agency: COE

Property Number: 31200430002

Status: Unutilized

Comment: 55 ft. x 12 ft., most recent use—office, off-site use only.

Social Security Building

806 N. Jefferson

Springfield Co: Greene MO 65802-

Landholding Agency: GSA

Property Number: 54200530006

Status: Excess

Comment: 17,346 sq. ft., needs repair, possible asbestos/lead paint, to be vacant approx. 12/2006.

GSA Number: 7-G-MO-0675

Montana

Bldg. 1

Butte Natl Guard

Butte Co: Silverbow MT 59701-

Landholding Agency: COE

Property Number: 31200040010

Status: Unutilized

Comment: 22799 sq. ft., presence of asbestos, most recent use—cold storage, off-site use only.

Bldg. 2

Butte Natl Guard

Butte Co: Silverbow MT 59701-

Landholding Agency: COE

Property Number: 31200040011

Status: Unutilized

Comment: 3292 sq. ft., most recent use—cold storage, off-site use only.

Bldg. 3

Butte Natl Guard

Butte Co: Silverbow MT 59701-

Landholding Agency: COE

Property Number: 31200040012

Status: Unutilized

Comment: 964 sq. ft., most recent use—cold storage, off-site use only.

Bldg. 4

Butte Natl Guard

Butte Co: Silverbow MT 59701-

Landholding Agency: COE

Property Number: 31200040013

Status: Unutilized

Comment: 72 sq. ft., most recent use—cold storage, off-site use only.

Bldg. 5

Butte Natl Guard

Butte Co: Silverbow MT 59701-

Landholding Agency: COE

Property Number: 31200040014

Status: Unutilized

Comment: 1286 sq. ft., most recent use—cold storage, off-site use only.

New York

Bldg. 240

Rome Lab

Rome Co: Oneida NY 13441-

Landholding Agency: Air Force

Property Number: 18200340023

Status: Unutilized

Comment: 39108 sq. ft., presence of asbestos, most recent use—Electronic Research Lab.

Bldg. 247

Rome Lab

Rome Co: Oneida NY 13441-

Landholding Agency: Air Force

Property Number: 18200340024

Status: Unutilized

Comment: 13199 sq. ft., presence of asbestos, most recent use—Electronic Research Lab.

Bldg. 248

Rome Lab

Rome Co: Oneida NY 13441-

Landholding Agency: Air Force

Property Number: 18200340025

Status: Unutilized

Comment: 4000 sq. ft., presence of asbestos, most recent use—Electronic Research Lab.

Bldg. 302

Rome Lab

Rome Co: Oneida NY 13441-

Landholding Agency: Air Force

Property Number: 18200340026

Status: Unutilized

Comment: 10288 sq. ft., presence of asbestos, most recent use—communications facility.

Thaddeus J. Dulski

Federal Building

111 West Huron Street

Buffalo Co: Erie NY 14202-

Landholding Agency: GSA

Property Number: 54200530011

Status: Excess

Comment: 17-story, 470,000 gross sq. ft., presence of widespread asbestos, abatement recommended.

GSA Number: 1-G-NY-0911.

Bldg. 3

VA Medical Center

Batavia Co: Genesee NY 14020-

Landholding Agency: VA

Property Number: 97200520001

Status: Unutilized

Comment: 5840 sq. ft., needs rehab, presence of asbestos, most recent use—offices, eligible for Natl Register of Historic Places.

Ohio

Barker Historic House

Willow Island Locks and Dam

Newport Co: Washington OH 45768-9801

Location: Located at lock site, downstream of lock and dam structure

Landholding Agency: COE

Property Number: 31199120018

Status: Unutilized

Comment: 1600 sq. ft. bldg. with ½ acre of land, 2 story brick frame, needs rehab, on Natl Register of Historic Places, no utilities, off-site use only.

Structure

Deer Creek Lake

Mt. Sterling Co: Pickaway OH 43143-

Landholding Agency: COE

Property Number: 31200530001

Status: Unutilized

Comment: 1321 sq. ft., brick, off-site use only.

Bldg. 402

VA Medical Center

Dayton Co: Montgomery OH 45428-

Landholding Agency: VA

Property Number: 97199920004

Status: Unutilized

Comment: 4 floors, potential utilities, needs major rehab, presence of asbestos/lead paint, historic property.

Pennsylvania

Mahoning Creek Reservoir

New Bethlehem Co: Armstrong PA 16242-

Landholding Agency: COE

Property Number: 31199210008

Status: Unutilized

Comment: 1015 sq. ft., 2 story brick residence, off-site use only.

Dwelling

Lock & Dam 6, Allegheny River, 1260 River Rd.

Freeport Co: Armstrong PA 16229-2023

Landholding Agency: COE

Property Number: 31199620008

Status: Unutilized

Comment: 2652 sq. ft., 3-story brick house, in close proximity to Lock and Dam, available for interim use for nonresidential purposes.

Govt. Dwelling

Youghiogheny River Lake

Confluence Co: Fayette PA 15424-9103

Landholding Agency: COE

Property Number: 31199640002

Status: Unutilized

Comment: 1421 sq. ft., 2-story brick w/basement, most recent use—residential.

Dwelling

Lock & Dam 4, Allegheny River

Natrona Co: Allegheny PA 15065-2609

Landholding Agency: COE

Property Number: 31199710009

Status: Unutilized

Comment: 1664 sq. ft., 2-story brick residence, needs repair, off-site use only.

Dwelling #1

Crooked Creek Lake

Ford City Co: Armstrong PA 16226-8815

Landholding Agency: COE

Property Number: 31199740002

Status: Excess

Comment: 2030 sq. ft., most recent use—residential, good condition, off-site use only.

Dwelling #2

Crooked Creek Lake

Ford City Co: Armstrong PA 16226-8815

Landholding Agency: COE

Property Number: 31199740003

Status: Excess

Comment: 3045 sq. ft., most recent use—residential, good condition, off-site use only.

Govt Dwelling

East Branch Lake

Wilcox Co: Elk PA 15870-9709

Landholding Agency: COE

Property Number: 31199740005

Status: Underutilized

Comment: approx. 5299 sq. ft., 1-story, most recent use—residence, off-site use only.

Dwelling #1

Loyalhanna Lake

Saltsburg Co: Westmoreland PA 15681-9302

Landholding Agency: COE

Property Number: 31199740006

Status: Excess

Comment: 1996 sq. ft., most recent use—residential, good condition, off-site use only.

Dwelling #2

Loyalhanna Lake

Saltsburg Co: Westmoreland PA 15681-9302

Landholding Agency: COE

Property Number: 31199740007

Status: Excess

Comment: 1996 sq. ft., most recent use—residential, good condition, off-site use only.

Dwelling #1

Woodcock Creek Lake

Saegertown Co: Crawford PA 16433-0629

Landholding Agency: COE

Property Number: 31199740008

Status: Excess

Comment: 2106 sq. ft., most recent use—residential, good condition, off-site use only.

Dwelling #2

Lock & Dam 6, 1260 River Road

Freeport Co: Armstrong PA 16229-2023

Landholding Agency: COE

Property Number: 31199740009

Status: Excess

Comment: 2652 sq. ft., most recent use—residential, good condition, off-site use only.

Dwelling #2

Youghiogheny River Lake

Confluence Co: Fayette PA 15424-9103

Landholding Agency: COE

Property Number: 31199830003

Status: Excess

Comment: 1421 sq. ft., 2-story + basement, most recent use—residential.

Residence A

2045 Pohopoco Drive

Lehighton Co: Carbon PA 18235-

Landholding Agency: COE

Property Number: 31200410007

Status: Unutilized

Comment: 1200 sq. ft., presence of asbestos, off-site use only.

Bldg. 3, VAMC

1700 South Lincoln Avenue

Lebanon Co: Lebanon PA 17042-

Landholding Agency: VA

Property Number: 97199230012

Status: Underutilized

Comment: portion of bldg. (4046 sq. ft.), most recent use—storage, second floor—lacks elevator access.

South Carolina

24 Bldgs.

Hunley Park/Charleston AFB

Idaho Ave., Unit Type 3S

N. Charleston Co: SC 29404-4827

Landholding Agency: Air Force

Property Number: 18200430011

Status: Excess

Comment: 1624 sq. ft., needs extensive repair, presence of asbestos/lead paint, most recent use—residential, off-site use only.

6 Bldgs.

Hunley Park/Charleston AFB

N. Charleston Co: SC 29404-

Location: 3510, 3514, 3517, 3528, 3533, 3538

Landholding Agency: Air Force

Property Number: 18200430012

Status: Excess

Comment: 1684 sq. ft., needs extensive repair, presence of asbestos/lead paint, most recent use—residential, off-site use only.

Bldg. 3601

Hunley Park/Charleston AFB

N. Charleston Co: SC 29404-

Landholding Agency: Air Force

Property Number: 18200430013

Status: Excess

Comment: 1902 sq. ft., needs extensive repair, presence of asbestos/lead paint, most recent use—residential, off-site use only.

5 Bldgs.

Hunley Park/Charleston AFB

N. Charleston Co: SC 29404-

Location: 3524, 3603, 3605, 3607, 3608

Landholding Agency: Air Force

Property Number: 18200430014

Status: Excess

Comment: 1788 sq. ft., needs extensive repair, presence of asbestos/lead paint, most recent use—residential, off-site use only.

5 Bldgs.

Hunley Park/Charleston AFB

Unit Type 4J

N. Charleston Co: SC 29404-

Landholding Agency: Air Force

Property Number: 18200430022

Status: Excess

Comment: 3423 sq. ft., needs extensive repair, presence of asbestos/lead paint, most recent use—residential, off-site use only.

7 Bldgs.

Charleston AFB

Floor Plan 1

N. Charleston Co: SC 29404-4827

Landholding Agency: Air Force

Property Number: 18200430023

Status: Excess

Comment: 2135 sq. ft., presence of asbestos/lead paint, most recent use—residential, off-site use only.

11 Bldgs.

Charleston AFB

Floor Plan 4AR

N. Charleston Co: SC 29404-

Landholding Agency: Air Force

Property Number: 18200430024

Status: Excess

Comment: 2652 sq. ft., presence of asbestos/lead paint, most recent use—residential, off-site use only.

4 Bldgs.

Charleston AFB

N. Charleston Co: SC 29404-

Location: 2314A/B, 2327A/B, 2339A/B, 2397A/B

Landholding Agency: Air Force

Property Number: 18200430025

Status: Excess

Comment: 2722 sq. ft., presence of asbestos/lead paint, most recent use—residential, off-site use only.

5 Bldgs.

Charleston AFB

N. Charleston Co: SC 29404-

Location: 2311A/B, 2322A/B, 2329A/B, 2385A/B, 2399A/B

Landholding Agency: Air Force

Property Number: 18200430026

Status: Excess

Comment: 2642 sq. ft., presence of asbestos/lead paint, most recent use—residential, off-site use only.

4 Bldgs.

Charleston AFB

N. Charleston Co: SC 29404-

Location: 2315A/B, 2323A/B, 2330A/B, 2387A/B

Landholding Agency: Air Force

Property Number: 18200430027

Status: Excess

Comment: 2756 sq. ft., presence of asbestos/lead paint, most recent use—residential, off-site use only.

3 Bldgs.

Charleston AFB

N. Charleston Co: SC 29404-

Location: 2321A/B, 2326A/B, 2336A/B

Landholding Agency: Air Force

Property Number: 18200430028

Status: Excess

Comment: 2766 sq. ft., presence of asbestos/lead paint, most recent use—residential, off-site use only.

Bldg. 2331A/B

Charleston AFB

N. Charleston Co: SC 29494-

Landholding Agency: Air Force

Property Number: 18200430029

Status: Excess

Comment: 2803 sq. ft., presence of asbestos/lead paint, most recent use—residential, off-site use only.

Bldg. 2341A/B

Charleston AFB

N. Charleston Co: SC 29404-

Landholding Agency: Air Force

Property Number: 18200430030

Status: Excess

Comment: 2715 sq. ft., presence of asbestos/lead paint, most recent use—residential, off-site use only.

6 Bldgs.

Charleston AFB

N. Charleston Co: SC 29404-

Location: 2346, 2354, 2363, 2382, 2389, 2396

Landholding Agency: Air Force

Property Number: 18200430031

Status: Excess

Comment: 1394 sq. ft., presence of asbestos/lead paint, most recent use—residential, off-site use only.

15 Bldgs.

Charleston AFB

Floor Plan 6A

N. Charleston Co: SC 29404-

Landholding Agency: Air Force

Property Number: 18200430032

Status: Excess

Comment: 1378 sq. ft., presence of asbestos/lead paint, most recent use—residential, off-site use only.

12 Bldgs.

Charleston AFB

Floor Plan 6B

N. Charleston Co: SC 29404-

Landholding Agency: Air Force

Property Number: 18200430033

Status: Excess

Comment: 1387 sq. ft., presence of asbestos/lead paint, most recent use—residential, off-site use only.

13 Bldgs.

Charleston AFB

Floor Plan 1-1

N. Charleston Co: SC 29404-

Landholding Agency: Air Force

Property Number: 18200430034

Status: Excess

Comment: 2305 sq. ft., presence of asbestos/lead paint, most recent use—residential, off-site use only.

Bldg. 2377

Charleston AFB

N. Charleston Co: SC 29404-

Landholding Agency: Air Force

Property Number: 18200430035

Status: Excess

Comment: 1662 sq. ft., presence of asbestos/lead paint, most recent use—residential, off-site use only.

10 Bldgs.

Charleston AFB

Floor Plan D6

N. Charleston Co: SC 29204-

Landholding Agency: Air Force

Property Number: 18200430036

Status: Excess

Comment: 1241 sq. ft., presence of asbestos/lead paint, most recent use—residential, off-site use only.

7 Bldgs.

Charleston AFB

Floor Plan DIV

N. Charleston Co: SC 29404-

Landholding Agency: Air Force

Property Number: 18200430038

Status: Excess

Comment: 1250 sq. ft., presence of asbestos/lead paint, most recent use—residential, off-site use only.

7 Bldgs.

Charleston AFB

Floor Plan E6

N. Charleston Co: SC 29204-

Landholding Agency: Air Force

Property Number: 18200430040

Status: Excess

Comment: 1249 sq. ft., presence of asbestos/lead paint, most recent use—residential, off-site use only.

11 Bldgs.

Charleston AFB

Floor Plan F6

N. Charleston Co: SC 29404-

Landholding Agency: Air Force

Property Number: 18200430041

Status: Excess

Comment: 1249 sq. ft., presence of asbestos/lead paint, most recent use—residential, off-site use only.

11 Bldgs.

Charleston AFB

Floor Plan G6

N. Charleston Co: SC 29404-

Landholding Agency: Air Force

Property Number: 18200430042

Status: Excess

Comment: 1390 sq. ft., presence of asbestos/lead paint, most recent use—residential, off-site use only.

9 Bldgs.

Charleston AFB

Floor Plan GV

N. Charleston Co: SC 29404-

Landholding Agency: Air Force

Property Number: 18200430043

Status: Excess

Comment: 1390 sq. ft., presence of asbestos/lead paint, most recent use—residential, off-site use only.

8 Bldgs.

Charleston AFB

Floor Plan H6

N. Charleston Co: SC 29404-

Landholding Agency: Air Force

Property Number: 18200430044

Status: Excess

Comment: 1396 sq. ft., presence of asbestos/lead paint, most recent use—residential, off-site use only.

Bldgs. 1841A/B, 1849A/B

Charleston AFB

N. Charleston Co: SC 29404-

Landholding Agency: Air Force

Property Number: 18200430045

Status: Excess

Comment: 2249 sq. ft., presence of asbestos/lead paint, most recent use—residential, off-site use only.

9 Bldgs.

Charleston AFB

Floor Plan I6

N. Charleston Co: SC 29404-

Landholding Agency: Air Force

Property Number: 18200430046

Status: Excess

Comment: 1400 sq. ft., presence of asbestos/lead paint, most recent use—residential, off-site use only.

7 Bldgs.

Charleston AFB

Floor Plan IV

N. Charleston Co: SC 29404-

Landholding Agency: Air Force

Property Number: 18200430047

Status: Excess

Comment: 1400 sq. ft., presence of asbestos/lead paint, most recent use—residential, off-site use only.

4 Bldgs.

Charleston AFB

N. Charleston Co: SC 29404-

Location: 1846A/B, 1853A/B, 1862A/B, 2203A/B

Landholding Agency: Air Force

Property Number: 18200430048

Status: Excess

Comment: 2363 sq. ft., presence of asbestos/lead paint, most recent use—residential, off-site use only.

40 Bldgs.

Charleston AFB

Floor Plan 2A

N. Charleston Co: SC 29404-

Landholding Agency: Air Force

Property Number: 18200430049

Status: Excess

Comment: 2387 sq. ft., presence of asbestos/lead paint, most recent use—residential, off-site use only.

Bldg. 1765A/B

Charleston AFB

N. Charleston Co: SC 29404-

Landholding Agency: Air Force

Property Number: 18200430050

Status: Excess

Comment: 2558 sq. ft., presence of asbestos/lead paint, most recent use—residential, off-site use only.

42 Bldgs.

Charleston AFB

Floor Plan 2R

N. Charleston Co: SC 29404-

Landholding Agency: Air Force

Property Number: 18200430051

Status: Excess

Comment: 2558 sq. ft., presence of asbestos/lead paint, most recent use—residential, off-site use only.

Bldg. 1828A/B

Charleston AFB

N. Charleston Co: SC 29404-

Landholding Agency: Air Force

Property Number: 18200430052

Status: Excess

Comment: 2330 sq. ft., presence of asbestos/lead paint, most recent use—residential, off-site use only.

3 Bldgs.

Charleston AFB

N. Charleston Co: SC 29404-

Location: 2309A/B, 2320A/B, 2335A/B

Landholding Agency: Air Force

Property Number: 18200430053

Status: Excess

Comment: 2766 sq. ft., presence of asbestos/lead paint, most recent use—residential, off-site use only.

South Dakota

West Communications Annex

Ellsworth Air Force Base

Ellsworth AFB Co: Meade SD 57706-

Landholding Agency: Air Force

Property Number: 18199340051

Status: Unutilized

Comment: 2 bldgs. on 2.37 acres, remote area, lacks infrastructure, road hazardous during winter storms, most recent use—industrial storage.

Residence, Tract 139

101 Laurel Avenue

Oahe Dam/Lake Oahe Proj.

Pierre Co: SD 57501-

Landholding Agency: COE

Property Number: 31200520008

Status: Excess

Comment: 996 sq. ft., off-site use only.

Residence, Tract 302

107 E. Main Street

Oahe Dam/Lake Oahe Proj.

Pierre Co: SD 57532-

Landholding Agency: COE

Property Number: 31200520009

Status: Excess

Comment: 1096 sq. ft., off-site use only.

Residence, Tract 525

108 East 7th Ave.

Oahe Dam/Lake Oahe Proj.

Pierre Co: SD 57532-

Landholding Agency: COE

Property Number: 31200520010

Status: Excess

Comment: 1568 sq. ft., off-site use only.

Virginia

Metal Bldg.

John H. Kerr Dam & Reservoir

Co: Boydton VA

Landholding Agency: COE

Property Number: 31199620009

Status: Excess

Comment: 800 sq. ft., most recent use—storage, off-site use only.

Washington

INS Federal Building

815 Airport Way SO

Seattle Co: King WA 98134-

Landholding Agency: GSA

Property Number: 54200530010

Status: Excess

Comment: 9660 sq. ft., presence of asbestos/lead paint, historic property.

GSA Number: 9-G-WA-1226

West Virginia

Army Reserve Center

4200 Emerson Ave.

Parkersburg Co: Wood WV 21203-

Landholding Agency: GSA

Property Number: 54200530009

Status: Excess

Comment: 28,880 sq. ft., current tenant will vacate.

GSA Number: 4-D-WV-550

Wisconsin

Bldg. 8

VA Medical Center

County Highway E

Tomah Co: Monroe WI 54660-

Landholding Agency: VA

Property Number: 97199010056

Status: Underutilized

Comment: 2200 sq. ft., 2-story wood frame, possible asbestos, potential utilities, structural deficiencies, needs rehab.

Land (by State)

Alabama

VA Medical Center

VAMC

Tuskegee Co: Macon AL 36083-

Landholding Agency: VA

Property Number: 97199010053

Status: Underutilized

Comment: 40 acres, buffer to VA Medical Center, potential utilities, undeveloped.

Arkansas

Parcel 01

DeGray Lake

Section 12

Arkadelphia Co: Clark AR 71923-9361

Landholding Agency: COE

Property Number: 31199010071

Status: Unutilized

Comment: 77.6 acres.

Parcel 02

DeGray Lake

Section 13

Arkadelphia Co: Clark AR 71923-9361

Landholding Agency: COE

Property Number: 31199010072

Status: Unutilized

Comment: 198.5 acres.

Parcel 03

DeGray Lake

Section 18

Arkadelphia Co: Clark AR 71923-9361

Landholding Agency: COE

Property Number: 31199010073

Status: Unutilized

Comment: 50.46 acres.

Parcel 04

DeGray Lake

Section 24, 25, 30 and 31

Arkadelphia Co: Clark AR 71923-9361

Landholding Agency: COE

Property Number: 31199010074

Status: Unutilized

Comment: 236.37 acres.

Parcel 05

DeGray Lake

Section 16

Arkadelphia Co: Clark AR 71923-9361

Landholding Agency: COE

Property Number: 31199010075

Status: Unutilized

Comment: 187.30 acres.

Parcel 06

DeGray Lake

Section 13

Arkadelphia Co: Clark AR 71923-9361

Landholding Agency: COE

Property Number: 31199010076

Status: Unutilized

Comment: 13.0 acres.

Parcel 07

DeGray Lake

Section 34

Arkadelphia Co: Hot Spring AR 71923-9361

Landholding Agency: COE

Property Number: 31199010077

Status: Unutilized

Comment: 0.27 acres.

Parcel 08

DeGray Lake

Section 13

Arkadelphia Co: Clark AR 71923-9361

Landholding Agency: COE

Property Number: 31199010078

Status: Unutilized

Comment: 14.6 acres.

Parcel 09

DeGray Lake

Section 12

Arkadelphia Co: Hot Spring AR 71923-9361

Landholding Agency: COE

Property Number: 31199010079

Status: Unutilized

Comment: 6.60 acres.

Parcel 10

DeGray Lake

Section 12

Arkadelphia Co: Hot Spring AR 71923-9361

Landholding Agency: COE

Property Number: 31199010080

Status: Unutilized

Comment: 4.5 acres.

Parcel 11

DeGray Lake

Section 19

Arkadelphia Co: Hot Spring AR 71923-9361

Landholding Agency: COE

Property Number: 31199010081

Status: Unutilized

Comment: 19.50 acres.

Lake Greeson

Section 7, 8 and 18

Murfreesboro Co: Pike AR 71958-9720

Landholding Agency: COE

Property Number: 31199010083

Status: Unutilized

Comment: 46 acres.

California

Land 4150 Clement Street

San Francisco Co: San Francisco CA 94121-

Landholding Agency: VA

Property Number: 97199240001

Status: Underutilized

Comment: 4 acres; landslide area.

Indiana

Tanner's Creek

Access Site off Rt. 50

Lawrenceburg Co: IN

Landholding Agency: GSA

Property Number: 54200430022

Status: Excess

Comment: 8.45 acres, boat launch, flowage easement.

GSA Number: 1-D-IN-571-C

Patriot Boat Ramp

Rt 156

Switzerland Co: IN

Landholding Agency: GSA

Property Number: 54200440009

Status: Excess

Comment: 34.11 acres, parking and boat launch, flowage easement.

GSA Number: 1-D-IN-571-B

Iowa

40.66 acres

VA Medical Center 1515 West Pleasant St.

Knoxville Co: Marion IA 50138-

Landholding Agency: VA

Property Number: 97199740002

Status: Unutilized

Comment: Golf course, easement requirements.

Kansas

Parcel 1

El Dorado Lake

Section 13, 24, and 18 (See County) Co: Butler KS

Landholding Agency: COE

Property Number: 31199010064

Status: Unutilized

Comment: 61 acres; most recent use—recreation.

Kentucky

Tract 2625

Barkley Lake, Kentucky, and Tennessee

Cadiz Co: Trigg KY 42211-

Location: Adjoining the village of Rockcastle.

Landholding Agency: COE

Property Number: 31199010025

Status: Excess

Comment: 2.57 acres; rolling and wooded.

Tract 2709-10 and 2710-2

Barkley Lake, Kentucky and Tennessee

Cadiz Co: Trigg KY 42211-

Location: 2½ miles in a southerly direction from the village of Rockcastle.

Landholding Agency: COE

Property Number: 31199010026

Status: Excess

Comment: 2.00 acres; steep and wooded.

Tract 2708-1 and 2709-1

Barkley Lake, Kentucky and Tennessee

Cadiz Co: Trigg KY 42211-

Location: 2½ miles in a southerly direction from the village of Rockcastle.

Landholding Agency: COE

Property Number: 31199010027

Status: Excess

Comment: 3.59 acres; rolling and wooded; no utilities.

Tract 2800

Barkley Lake, Kentucky and Tennessee

Cadiz Co: Trigg KY 42211-

Location: 4½ miles in a southeasterly direction from the village of Rockcastle.

Landholding Agency: COE

Property Number: 31199010028

Status: Excess

Comment: 5.44 acres; steep and wooded.

Tract 2915

Barkley Lake, Kentucky and Tennessee

Cadiz Co: Trigg KY 42211-

Location: 6½ miles west of Cadiz.

Landholding Agency: COE

Property Number: 31199010029

Status: Excess

Comment: 5.76 acres; steep and wooded; no utilities.

Tract 2702

Barkley Lake, Kentucky and Tennessee

Cadiz Co: Trigg KY 42211-

Location: 1 mile in a southerly direction from the village of Rockcastle.

Landholding Agency: COE

Property Number: 31199010031

Status: Excess

Comment: 4.90 acres; wooded; no utilities.

Tract 4318

Barkley Lake, Kentucky and Tennessee

Canton Co: Trigg KY 42212-

Location: Trigg Co. adjoining the city of Canton, KY. on the waters of Hopson Creek.

Landholding Agency: COE

Property Number: 31199010032

Status: Excess

Comment: 8.24 acres; steep and wooded.

Tract 4502

Barkley Lake, Kentucky and Tennessee

Canton Co: Trigg KY 42212-

Location: 3½ miles in a southerly direction from Canton, KY.

Landholding Agency: COE

Property Number: 31199010033

Status: Excess

Comment: 4.26 acres; steep and wooded.

Tract 4611

Barkley Lake, Kentucky and Tennessee

Canton Co: Trigg KY 42212-

Location: 5 miles south of Canton, KY.

Landholding Agency: COE

Property Number: 31199010034

Status: Excess

Comment: 10.51 acres; steep and wooded; no utilities.

Tract 4619

Barkley Lake, Kentucky and Tennessee

Canton Co: Trigg KY 42212-

Location: 4½ miles south from Canton, KY.

Landholding Agency: COE

Property Number: 31199010035

Status: Excess

Comment: 2.02 acres; steep and wooded; no utilities.

Tract 4817

Barkley Lake, Kentucky and Tennessee

Canton Co: Trigg KY 42212-

Location: 6½ miles south of Canton, KY.

Landholding Agency: COE

Property Number: 31199010036

Status: Excess

Comment: 1.75 acres; wooded.

Tract 1217

Barkley Lake, Kentucky and Tennessee

Eddyville Co: Lyon KY 42030-

Location: On the north side of the Illinois Central Railroad.

Landholding Agency: COE

Property Number: 31199010042

Status: Excess

Comment: 5.80 acres; steep and wooded.

Tract 1906

Barkley Lake, Kentucky and Tennessee

Eddyville Co: Lyon KY 42030-

Location: Approximately 4 miles east of Eddyville, KY.

Landholding Agency: COE

Property Number: 31199010044

Status: Excess

Comment: 25.86 acres; rolling steep and partially wooded; no utilities.

Tract 1907

Barkley Lake, Kentucky and Tennessee

Eddyville Co: Lyon KY 42038-

Location: On the waters of Pilfen Creek, 4 miles east of Eddyville, KY

Landholding Agency: COE

Property Number: 31199010045

Status: Excess

Comment: 8.71 acres; rolling steep and wooded; no utilities.

Tract 2001 #1

Barkley Lake, Kentucky and Tennessee

Eddyville Co: Lyon KY 42030-

Location: Approximately 4½ miles east of Eddyville, KY.

Landholding Agency: COE

Property Number: 31199010046

Status: Excess

Comment: 47.42 acres; steep and wooded; no utilities.

Tract 2001 #2

Barkley Lake, Kentucky and Tennessee

Eddyville Co: Lyon KY 42030-

Location: Approximately 4½ miles east of Eddyville, KY.

Landholding Agency: COE

Property Number: 31199010047

Status: Excess

Comment: 8.64 acres; steep and wooded; no utilities.

Tract 2005

Barkley Lake, Kentucky and Tennessee

Eddyville Co: Lyon KY 42030-

Location: Approximately 5½ miles east of Eddyville, KY.

Landholding Agency: COE

Property Number: 31199010048

Status: Excess

Comment: 4.62 acres; steep and wooded; no utilities.

Tract 2307

Barkley Lake, Kentucky and Tennessee

Eddyville Co: Lyon KY 42030-

Location: Approximately 7½ miles southeasterly of Eddyville, KY.

Landholding Agency: COE

Property Number: 31199010049

Status: Excess

Comment: 11.43 acres; steep; rolling and wooded; no utilities.

Tract 2403

Barkley Lake, Kentucky and Tennessee

Eddyville Co: Lyon KY 42030-

Location: 7 miles southeasterly of Eddyville, KY.

Landholding Agency: COE

Property Number: 31199010050

Status: Excess

Comment: 1.56 acres; steep and wooded; no utilities.

Tract 2504

Barkley Lake, Kentucky and Tennessee

Eddyville Co: Lyon KY 42030-

Location: 9 miles southeasterly of Eddyville, KY.

Landholding Agency: COE

Property Number: 31199010051

Status: Excess

Comment: 24.46 acres; steep and wooded; no utilities.

Tract 214

Barkley Lake, Kentucky and Tennessee

Grand Rivers Co: Lyon KY 42045-

Location: South of the Illinois Central Railroad, 1 mile east of the Cumberland River.

Landholding Agency: COE

Property Number: 31199010052

Status: Excess

Comment: 5.5 acres; wooded; no utilities.

Tract 215

Barkley Lake, Kentucky and Tennessee

Grand Rivers Co: Lyon KY 42045-

Location: 5 miles southwest of Kuttawa

Landholding Agency: COE

Property Number: 31199010053

Status: Excess

Comment: 1.40 acres; wooded; no utilities.

Tract 241

Barkley Lake, Kentucky and Tennessee

Grand Rivers Co: Lyon KY 42045-

Location: Old Henson Ferry Road, 6 miles west of Kuttawa, KY.

Landholding Agency: COE

Property Number: 31199010054

Status: Excess

Comment: 1.26 acres; steep and wooded; no utilities.

Tracts 306, 311, 315 and 325

Barkley Lake, Kentucky and Tennessee

Grand Rivers Co: Lyon KY 42045-

Location: 2.5 miles southwest of Kuttawa, KY. on the waters of Cypress Creek.

Landholding Agency: COE

Property Number: 31199010055

Status: Excess

Comment: 38.77 acres; steep and wooded; no utilities.

Tracts 2305, 2306, and 2400-1

Barkley Lake, Kentucky and Tennessee

Eddyville Co: Lyon KY 42030-

Location: 6½ miles southeasterly of Eddyville, KY.

Landholding Agency: COE

Property Number: 31199010056

Status: Excess

Comment: 97.66 acres; steep rolling and wooded; no utilities.

Tracts 5203 and 5204

Barkley Lake, Kentucky and Tennessee

Linton Co: Trigg KY 42212-

Location: Village of Linton, KY state highway 1254.

Landholding Agency: COE

Property Number: 31199010058

Status: Excess

Comment: 0.93 acres; rolling, partially wooded; no utilities.

Tract 5240

Barkley Lake, Kentucky and Tennessee

Linton Co: Trigg KY 42212-

Location: 1 mile northwest of Linton, KY.

Landholding Agency: COE

Property Number: 31199010059

Status: Excess

Comment: 2.26 acres; steep and wooded; no utilities.

Tract 4628

Barkley Lake, Kentucky and Tennessee

Canton Co: Trigg KY 42212-

Location: 4½ miles south from Canton, KY.

Landholding Agency: COE

Property Number: 31199011621

Status: Excess

Comment: 3.71 acres; steep and wooded; subject to utility easements.

Tract 4619-B

Barkley Lake, Kentucky and Tennessee

Canton Co: Trigg KY 42212-

Location: 4½ miles south from Canton, KY.

Landholding Agency: COE

Property Number: 31199011622

Status: Excess

Comment: 1.73 acres; steep and wooded; subject to utility easements.

Tract 2403-B

Barkley Lake, Kentucky and Tennessee

Eddyville Co: Lyon KY 42038-

Location: 7 miles southeasterly from Eddyville, KY.

Landholding Agency: COE

Property Number: 31199011623

Status: Unutilized

Comment: 0.70 acres, wooded; subject to utility easements.

Tract 241-B

Barkley Lake, Kentucky and Tennessee

Grand Rivers Co: Lyon KY 42045-

Location: South of Old Henson Ferry Road, 6 miles west of Kuttawa, KY.

Landholding Agency: COE

Property Number: 31199011624

Status: Excess

Comment: 11.16 acres; steep and wooded; subject to utility easements.

Tracts 212 and 237

Barkley Lake, Kentucky and Tennessee

Grand Rivers Co: Lyon KY 42045-

Location: Old Henson Ferry Road, 6 miles west of Kuttawa, KY.

Landholding Agency: COE

Property Number: 31199011625

Status: Excess

Comment: 2.44 acres; steep and wooded; subject to utility easements.

Tract 215-B

Barkley Lake, Kentucky and Tennessee

Grand Rivers Co: Lyon KY 42045-

Location: 5 miles southwest of Kuttawa

Landholding Agency: COE

Property Number: 31199011626

Status: Excess

Comment: 1.00 acres; wooded; subject to utility easements.

Tract 233

Barkley Lake, Kentucky and Tennessee

Grand Rivers Co: Lyon KY 42045-

Location: 5 miles southwest of Kuttawa

Landholding Agency: COE

Property Number: 31199011627

Status: Excess

Comment: 1.00 acres; wooded; subject to utility easements.

Tract N-819

Dale Hollow Lake & Dam Project

Illwill Creek, Hwy 90

Hobart Co: Clinton KY 42601-

Landholding Agency: COE

Property Number: 31199140009

Status: Underutilized

Comment: 91 acres, most recent use—hunting, subject to existing easements.

Portion of Lock & Dam No. 1

Kentucky River

Carrolton Co: Carroll KY 41008-0305

Landholding Agency: COE

Property Number: 31199320003

Status: Unutilized

Comment: approx. 3.5 acres (sloping), access monitored.

Tract No. F-610

Buckhorn Lake Project

Buckhorn KY 41721-

Landholding Agency: COE

Property Number: 31200240001

Status: Unutilized

Comment: 0.64 acres, encroachments, most recent use—flood control purposes.

Louisiana

Wallace Lake Dam and Reservoir

Shreveport Co: Caddo LA 71103-

Landholding Agency: COE

Property Number: 31199011009

Status: Unutilized

Comment: 10.81 acres; wildlife/forestry; no utilities.

Bayou Bodcau Dam and Reservoir

Haughton Co: Caddo LA 71037-9707

Location: 35 miles Northeast of Shreveport, La.

Landholding Agency: COE

Property Number: 31199011010

Status: Unutilized

Comment: 203 acres; wildlife/forestry; no utilities.

Mississippi

Parcel 7

Grenada Lake

Sections 22, 23, T24N

Grenada Co: Yalobusha MS 38901-0903

Landholding Agency: COE

Property Number: 31199011019

Status: Underutilized

Comment: 100 acres; no utilities; intermittently used under lease—expires 1994.

Parcel 8

Grenada Lake

Section 20, T24N

Grenada Co: Yalobusha MS 38901-0903

Landholding Agency: COE

Property Number: 31199011020

Status: Underutilized

Comment: 30 acres; no utilities; intermittently used under lease—expires 1994.

Parcel 9

Grenada Lake

Section 20, T24N, R7E

Grenada Co: Yalobusha MS 38901-0903

Landholding Agency: COE

Property Number: 31199011021

Status: Underutilized

Comment: 23 acres; no utilities; intermittently used under lease—expires 1994.

Parcel 10

Grenada Lake

Sections 16, 17, 18 T24N R8E

Grenada Co: Calhoun MS 38901-0903

Landholding Agency: COE

Property Number: 31199011022

Status: Underutilized

Comment: 490 acres; no utilities; intermittently used under lease—expires 1994.

Parcel 2

Grenada Lake

Section 20 and T23N, R5E

Grenada Co: Grenada MS 38901-0903

Landholding Agency: COE

Property Number: 31199011023

Status: Underutilized

Comment: 60 acres; no utilities; most recent use—wildlife and forestry management.

Parcel 3

Grenada Lake

Section 4, T23N, R5E

Grenada Co: Yalobusha MS 38901-0903

Landholding Agency: COE

Property Number: 31199011024

Status: Underutilized

Comment: 120 acres; no utilities; most recent use—wildlife and forestry management; (13.5 acres/agriculture lease).

Parcel 4

Grenada Lake

Section 2 and 3. T23N, R5E

Grenada Co: Yalobusha MS 38901-0903

Landholding Agency: COE

Property Number: 31199011025

Status: Underutilized

Comment: 60 acres; no utilities; most recent use—wildlife and forestry management.

Parcel 5

Grenada Lake

Section 7, T24N, R6E

Grenada Co: Yalobusha MS 38901-0903

Landholding Agency: COE

Property Number: 31199011026

Status: Underutilized

Comment: 20 acres; no utilities; most recent use—wildlife and forestry management; (14 acres/agriculture lease).

Parcel 6

Grenada Lake

Section 9, T24N, R6E

Grenada Co: Yalobusha MS 38903-0903

Landholding Agency: COE

Property Number: 31199011027

Status: Underutilized

Comment: 80 acres; no utilities; most recent use—wildlife and forestry management.

Parcel 11

Grenada Lake

Section 20, T24N, R8E

Grenada Co: Calhoun MS 38901-0903

Landholding Agency: COE

Property Number: 31199011028

Status: Underutilized

Comment: 30 acres; no utilities; most recent use—wildlife and forestry management.

Parcel 12

Grenada Lake

Section 25, T24N, R7E

Grenada Co: Yalobusha MS 38390-10903

Landholding Agency: COE

Property Number: 31199011029

Status: Underutilized

Comment: 30 acres; no utilities; most recent use—wildlife and forestry management.

Parcel 13

Grenada Lake

Section 34, T24N, R7E

Grenada Co: Yalobusha MS 38903-0903

Landholding Agency: COE

Property Number: 31199011030

Status: Underutilized

Comment: 35 acres; no utilities; most recent use—wildlife and forestry management; (11 acres/agriculture lease).

Parcel 14

Grenada Lake

Section 3, T23N, R6E

Grenada Co: Yalobusha MS 38901-0903

Landholding Agency: COE

Property Number: 31199011031

Status: Underutilized

Comment: 15 acres; no utilities; most recent use—wildlife and forestry management.

Parcel 15

Grenada Lake

Section 4, T24N, R6E

Grenada Co: Yalobusha MS 38901-0903

Landholding Agency: COE

Property Number: 31199011032

Status: Underutilized

Comment: 40 acres; no utilities; most recent use—wildlife and forestry management.

Parcel 16

Grenada Lake

Section 9, T23N, R6E

Grenada Co: Yalobusha MS 38901-0903

Landholding Agency: COE

Property Number: 31199011033

Status: Underutilized

Comment: 70 acres; no utilities; most recent use—wildlife and forestry management.

Parcel 17

Grenada Lake

Section 17, T23N, R7E

Grenada Co: Grenada MS 28901-0903

Landholding Agency: COE

Property Number: 31199011034

Status: Underutilized

Comment: 35 acres; no utilities; most recent use—wildlife and forestry management.

Parcel 18

Grenada Lake

Section 22, T23N, R7E

Grenada Co: Grenada MS 28902-0903

Landholding Agency: COE

Property Number: 31199011035

Status: Underutilized

Comment: 10 acres; no utilities; most recent use—wildlife and forestry management.

Parcel 19

Grenada Lake

Section 9, T22N, R7E

Grenada Co: Grenada MS 38901-0903

Landholding Agency: COE

Property Number: 31199011036

Status: Underutilized

Comment: 20 acres; no utilities; most recent use—wildlife and forestry management.

Missouri

Harry S Truman Dam & Reservoir

Warsaw Co: Benton MO 65355-

Location: Triangular shaped parcel southwest of access road “B”, part of Bledsoe Ferry Park Tract 150.

Landholding Agency: COE

Property Number: 31199030014

Status: Underutilized

Comment: 1.7 acres; potential utilities.

Ohio

Plats 9-72, 9-73

Davis Street

Niles Co: OH 44446-

Landholding Agency: GSA

Property Number: 54200530007

Status: Excess

Comment: 12,082 sq. ft., narrow right of way, no utilities.

GSA Number: 1-1-OH-826

Oklahoma

Pine Creek Lake

Section 27

(See County) Co: McCurtain OK

Landholding Agency: COE

Property Number: 31199010923

Status: Unutilized

Comment: 3 acres; no utilities; subject to right of way for Oklahoma State Highway 3.

Pennsylvania

Mahoning Creek Lake

New Bethlehem Co: Armstrong PA 16242-9603

Location: Route 28 north to Belknap, Road #4

Landholding Agency: COE

Property Number: 31199010018

Status: Excess

Comment: 2.58 acres; steep and densely wooded.

Tracts 610, 611, 612

Shenango River Lake

Sharpsville Co: Mercer PA 16150-

Location: I-79 North, I-80 West, Exit Sharon. R18 North 4 miles, left on R518, right on Mercer Avenue.

Landholding Agency: COE

Property Number: 31199011001

Status: Excess

Comment: 24.09 acres; subject to flowage easement.

Tracts L24, L26

Crooked Creek Lake

Co: Armstrong PA 03051-

Location: Left bank—55 miles downstream of dam.

Landholding Agency: COE

Property Number: 31199011011

Status: Unutilized

Comment: 7.59 acres; potential for utilities.

Portion of Tract L-21A

Crooked Creek Lake, LR 03051

Ford City Co: Armstrong PA 16226-

Landholding Agency: COE

Property Number: 31199430012

Status: Unutilized

Comment: Approximately 1.72 acres of undeveloped land, subject to gas rights.

South Dakota

S. Nike Ed. Annex Land

Ellsworth AFB

Pennington SD 57706-

Landholding Agency: Air Force

Property Number: 18200220010

Status: Unutilized

Comment: 7 acres w/five foundations from demolished bldgs. remain on site; with a road and a parking lot.

Tennessee

Tract 6827

Barkley Lake

Dover Co: Stewart TN 37058-

Location: 2½ miles west of Dover, TN.

Landholding Agency: COE

Property Number: 31199010927

Status: Excess

Comment: .57 acres; subject to existing easements.

Tracts 6002-2 and 6010

Barkley Lake

Dover Co: Stewart TN 37058-

Location: 3½ miles south of village of Tabaccoport.

Landholding Agency: COE

Property Number: 31199010928

Status: Excess

Comment: 100.86 acres; subject to existing easements.

Tract 11516

Barkley Lake

Ashland City Co: Dickson TN 37015-

Location: ½ mile downstream from Cheatham Dam

Landholding Agency: COE

Property Number: 31199010929

Status: Excess

Comment: 26.25 acres; subject to existing easements.

Tract 2319

J. Percy Priest Dam and Resorvoir

Murfreesboro Co: Rutherford TN 37130-

Location: West of Buckeye Bottom Road

Landholding Agency: COE

Property Number: 31199010930

Status: Excess

Comment: 14.48 acres; subject to existing easements.

Tract 2227

J. Percy Priest Dam and Resorvoir

Murfreesboro Co: Rutherford TN 37130-

Location: Old Jefferson Pike

Landholding Agency: COE

Property Number: 31199010931

Status: Excess

Comment: 2.27 acres; subject to existing easements.

Tract 2107

J. Percy Priest Dam and Reservoir

Murfreesboro Co: Rutherford TN 37130-

Location: Across Fall Creek near Fall Creek camping area.

Landholding Agency: COE

Property Number: 31199010932

Status: Excess

Comment: 14.85 acres; subject to existing easements.

Tracts 2601, 2602, 2603, 2604

Cordell Hull Lake and Dam Project

Doe Row Creek

Gainesboro Co: Jackson TN 38562-

Location: TN Highway 56

Landholding Agency: COE

Property Number: 31199010933

Status: Unutilized

Comment: 11 acres; subject to existing easements.

Tract 1911

J. Percy Priest Dam and Reservoir

Murfreesboro Co: Rutherford TN 37130-

Location: East of Lamar Road

Landholding Agency: COE

Property Number: 31199010934

Status: Excess

Comment: 6.92 acres; subject to existing easements.

Tract 7206

Barkley Lake

Dover Co: Stewart TN 37058-

Location: 2½ miles SE of Dover, TN.

Landholding Agency: COE

Property Number: 31199010936

Status: Excess

Comment: 10.15 acres; subject to existing easements.

Tracts 8813, 8814

Barkley Lake

Cumberland Co: Stewart TN 37050-

Location: 1½ miles East of Cumberland City.

Landholding Agency: COE

Property Number: 31199010937

Status: Excess

Comment: 96 acres; subject to existing easements.

Tract 8911

Barkley Lake

Cumberland City Co: Montgomery TN 37050-

Location: 4 miles east of Cumberland City.

Landholding Agency: COE

Property Number: 31199010938

Status: Excess

Comment: 7.7 acres; subject to existing easements.

Tract 11503

Barkley Lake

Ashland City Co: Cheatham TN 37015-

Location: 2 miles downstream from Cheatham Dam.

Landholding Agency: COE

Property Number: 31199010939

Status: Excess

Comment: 1.1 acres; subject to existing easements.

Tracts 11523, 11524

Barkley Lake

Ashland City Co: Cheatham TN 37015-

Location: 2½ miles downstream from Cheatham Dam.

Landholding Agency: COE

Property Number: 31199010940

Status: Excess

Comment: 19.5 acres; subject to existing easements.

Tract 6410

Barkley Lake

Bumpus Mills Co: Stewart TN 37028-

Location: 4½ miles SW. of Bumpus Mills.

Landholding Agency: COE

Property Number: 31199010941

Status: Excess

Comment: 17 acres; subject to existing easements.

Tract 9707

Barkley Lake

Palmyer Co: Montgomery TN 37142-

Location: 3 miles NE of Palmyer, TN. Highway 149

Landholding Agency: COE

Property Number: 31199010943

Status: Excess

Comment: 6.6 acres; subject to existing easements.

Tract 6949

Barkley Lake

Dover Co: Stewart TN 37058-

Location: 1½ miles SE of Dover, TN.

Landholding Agency: COE

Property Number: 31199010944

Status: Excess

Comment: 29.67 acres; subject to existing easements.

Tracts 6005 and 6017

Barkley Lake

Dover Co: Stewart TN 37058-

Location: 3 miles south of Village of Tobaccoport.

Landholding Agency: COE

Property Number: 31199011173

Status: Excess

Comment: 5 acres; subject to existing easements.

Tracts K-1191, K-1135

Old Hickory Lock and Dam

Hartsville Co: Trousdale TN 37074-

Landholding Agency: COE

Property Number: 31199130007

Status: Underutilized

Comment: 54 acres, (portion in floodway), most recent use—recreation.

Tract A-102

Dale Hollow Lake & Dam Project

Canoe Ridge, State Hwy 52

Celina Co: Clay TN 38551-

Landholding Agency: COE

Property Number: 31199140006

Status: Underutilized

Comment: 351 acres, most recent use—hunting, subject to existing easements.

Tract A-120

Dale Hollow Lake & Dam Project

Swann Ridge, State Hwy No. 53

Celina Co: Clay TN 38551-

Landholding Agency: COE

Property Number: 31199140007

Status: Underutilized

Comment: 883 acres, most recent use—hunting, subject to existing easements.

Tract D-185

Dale Hollow Lake & Dam Project

Ashburn Creek, Hwy No. 53

Livingston Co: Clay TN 38570-

Landholding Agency: COE

Property Number: 31199140010

Status: Underutilized

Comment: 97 acres, most recent use—hunting, subject to existing easements.

Texas

Land

Olin E. Teague Veterans Center 1901 South 1st Street

Temple Co: Bell TX 76504-

Landholding Agency: VA

Property Number: 97199010079

Status: Underutilized

Comment: 13 acres, portion formerly landfill, portion near flammable materials, railroad crosses property, potential utilities.

Wisconsin

VA Medical Center

County Highway E

Tomah Co: Monroe WI 54660-

Landholding Agency: VA

Property Number: 97199010054

Status: Underutilized

Comment: 12.4 acres, serves as buffer between center and private property, no utilities.

Suitable/Unavailable Properties Buildings (by State)

Colorado

Bldg. 100

La Junta Strategic Range

La Junta Co: Otero CO 81050-9501

Landholding Agency: Air Force

Property Number: 18200230001

Status: Excess

Comment: 7760 sq. ft., most recent use—admin/electronic equip. maintenance.

Bldg. 101

La Junta Strategic Range

La Junta Co: Otero CO 81050-9501

Landholding Agency: Air Force

Property Number: 18200230002

Status: Excess

Comment: 336 sq. ft., most recent use—storage.

Bldg. 102

La Junta Strategic Range

La Junta Co: Otero CO 81050-9501

Landholding Agency: Air Force

Property Number: 18200230003

Status: Excess

Comment: 1056 sq. ft., most recent use—storage.

Bldg. 103

La Junta Strategic Range

La Junta Co: Otero CO 81050-9501

Landholding Agency: Air Force

Property Number: 18200230004

Status: Excess

Comment: 784 sq. ft., most recent use—storage.

Bldg. 104

La Junta Strategic Range

La Junta Co: Otero CO 81050-9501

Landholding Agency: Air Force

Property Number: 18200230005

Status: Excess

Comment: 312 sq. ft., most recent use—storage.

Bldg. 106

La Junta Strategic Range

La Junta Co: Otero CO 81050-9501

Landholding Agency: Air Force

Property Number: 18200230006

Status: Excess

Comment: 100 sq. ft., most recent use—storage.

Illinois

Bldg. 7

Ohio River Locks & Dam No. 53

Grand Chain Co: Pulaski IL 62941-9801

Location: Ohio River Locks and Dam No. 53 at Grand Chain

Landholding Agency: COE

Property Number: 31199010001

Status: Unutilized

Comment: 900 sq. ft.; 1 floor wood frame; most recent use—residence.

Bldg. 6

Ohio River Locks & Dam No. 53

Grand Chain Co: Pulaski IL 62941-9801

Location: Ohio River Locks and Dam No. 53 at Grand Chain

Landholding Agency: COE

Property Number: 31199010002

Status: Unutilized

Comment: 900 sq. ft.; one floor wood frame; most recent use—residence.

Bldg. 5

Ohio River Locks & Dam No. 53

Grand Chain Co: Pulaski IL 62941-9801

Location: Ohio River Locks and Dam No. 53 at Grand Chain

Landholding Agency: COE

Property Number: 31199010003

Status: Unutilized

Comment: 900 sq. ft.; one floor wood frame; most recent use—residence.

Bldg. 4

Ohio River Locks & Dam No. 53

Grand Chain Co: Pulaski IL 62941-9801

Location: Ohio River Locks and Dam No. 53 at Grand Chain

Landholding Agency: COE

Property Number: 31199010004

Status: Unutilized

Comment: 900 sq. ft.; one floor wood frame; most recent use—residence.

Bldg. 3

Ohio River Locks & Dam No. 53

Grand Chain Co: Pulaski IL 62941-9801

Location: Ohio River Locks and Dam No. 53 at Grand Chain

Landholding Agency: COE

Property Number: 31199010005

Status: Unutilized

Comment: 900 sq. ft.; one floor wood frame.

Bldg. 2

Ohio River Locks & Dam No. 53

Grand Chain Co: Pulaski IL 62941-9801

Location: Ohio River Locks and Dam No. 53 at Grand Chain

Landholding Agency: COE

Property Number: 31199010006

Status: Unutilized

Comment: 900 sq. ft.; one floor wood frame; most recent use—residence.

Bldg. 1

Ohio River Locks & Dam No. 53

Grand Chain Co: Pulaski IL 62941-9801

Location: Ohio River Locks and Dam No. 53 at Grand Chain

Landholding Agency: COE

Property Number: 31199010007

Status: Unutilized

Comment: 900 sq. ft.; one floor wood frame; most recent use—residence.

Montana

VA MT Healthcare

210 S. Winchester

Miles City Co: Custer MT 59301-

Landholding Agency: VA

Property Number: 97200030001

Status: Underutilized

Comment: 18 buildings, total sq. ft. = 123,851, presence of asbestos, most recent use—clinic/office/food production.

New York

Bldg. 1225

Verona Text Annex

Verona Co: Oneida NY 13478-

Landholding Agency: Air Force

Property Number: 18200220014

Status: Unutilized

Comment: 3865 sq. ft., needs repair, presence of asbestos/lead paint, most recent use—research lab.

Bldg. 1226

Verona Test Annex

Verona Co: Oneida NY 13478-

Landholding Agency: Air Force

Property Number: 18200220015

Status: Unutilized

Comment: 7500 sq. ft., most recent use—storage.

Bldg. 1227

Verona Text Annex

Verona Co: Oneida NY 13478-

Landholding Agency: Air Force

Property Number: 18200220016

Status: Unutilized

Comment: 1152 sq. ft., presence of asbestos/lead paint, most recent use—power station.

Bldg. 1231

Verona Test Annex

Verona Co: Oneida NY 13478-

Landholding Agency: Air Force

Property Number: 18200220017

Status: Unutilized

Comment: 3865 sq. ft., presence of asbestos/lead paint/volatile organic compounds, access requirements, most recent use—research lab.

Bldg. 1233

Verona Test Annex

Verona Co: Oneida NY 13478-

Landholding Agency: Air Force

Property Number: 18200220018

Status: Unutilized

Comment: 1152 sq. ft., needs repair, presence of asbestos/lead paint/volatile organic compounds, access requirements, most recent use—power station.

Bldgs. 1235, 1239

Verona Test Annex

Verona Co: Oneida NY 13478-

Landholding Agency: Air Force

Property Number: 18200220019

Status: Unutilized

Comment: 144/825 sq. ft., need repairs, presence of lead paint, most recent use—electric switch station.

Bldg. 1241

Verona Test Annex

Verona Co: Oneida NY 13478-

Landholding Agency: Air Force

Property Number: 18200220020

Status: Unutilized

Comment: 159 sq. ft., presence of lead paint, most recent use—sewage pump station.

Bldg. 1243

Verona Test Annex

Verona Co: Oneida NY 13478-

Landholding Agency: Air Force

Property Number: 18200220021

Status: Unutilized

Comment: 25 sq. ft., most recent use—waste treatment.

Bldg. 1245

Verona Test Annex

Verona Co: Oneida NY 13478-

Landholding Agency: Air Force

Property Number: 18200220022

Status: Unutilized

Comment: 3835 sq. ft., needs repair, presence of asbestos/lead paint, most recent use—research lab.

Bldg. 1247

Verona Test Annex

Verona Co: Oneida NY 13478-

Landholding Agency: Air Force

Property Number: 18200220023

Status: Unutilized

Comment: 576 sq. ft., needs repair, presence of asbestos/lead paint, most recent use—power station.

Bldg. 1250 + land

Verona Test Annex

Verona Co: Oneida NY 13478-

Landholding Agency: Air Force

Property Number: 18200220024

Status: Unutilized

Comment: 11,766 sq. ft. offices/lab with 495 acres, presence of asbestos/lead paint/wetlands.

Bldg. 1253

Verona Test Annex

Verona Co: Oneida NY 13478-

Landholding Agency: Air Force

Property Number: 18200220025

Status: Unutilized

Comment: 3835 sq. ft., needs repair, presence of asbestos/lead paint/volatile organic compounds, access requirements, most recent use—research lab.

Bldg. 1255

Verona Test Annex

Verona Co: Oneida NY 13478-

Landholding Agency: Air Force

Property Number: 18200220026

Status: Unutilized

Comment: 576 sq. ft., needs repair, presence of lead paint/volatile organic compounds, access requirement, most recent use—power station.

Bldg. 1261

Verona Test Annex

Verona Co: Oneida NY 13478-

Landholding Agency: Air Force

Property Number: 18200220027

Status: Unutilized

Comment: 3835 sq. ft., needs repair, presence of asbestos/lead paint, most recent use—research lab.

Bldg. 1263

Verona Test Annex

Verona Co: Oneida NY 13478-

Landholding Agency: Air Force

Property Number: 18200220028

Status: Unutilized

Comment: 576 sq. ft. needs repair, presence of lead paint, most recent use—power station.

Bldgs. 1266, 1269

Verona Test Annex

Verona Co: Oneida NY 13478-

Landholding Agency: Air Force

Property Number: 18200220029

Status: Unutilized

Comment: 3730/3865 sq. ft., need repairs, presence of asbestos/lead paint, most recent use—research lab.

Bldg. 1271

Verona Test Annex

Verona Co: Oneida NY 13478-

Landholding Agency: Air Force

Property Number: 18200220030

Status: Unutilized

Comment: 1152 sq. ft., needs repair, presence of lead paint, most recent use—power station.

Bldg. 1273

Verona Test Annex

Verona Co: Oneida NY 13478-

Landholding Agency: Air Force

Property Number: 18200220031

Status: Unutilized

Comment: 87 sq. ft., presence of asbestos, most recent use—sewage pump station.

Bldg. 1277

Verona Test Annex

Verona Co: Oneida NY 13478-

Landholding Agency: Air Force

Property Number: 18200220032

Status: Unutilized

Comment: 3865 sq. ft., needs repair, presence of asbestos/lead paint, most recent use—research lab.

Bldg. 1279

Verona Test Annex

Verona Co: Oneida NY 13478-

Landholding Agency: Air Force

Property Number: 18200220033

Status: Unutilized

Comment: 1152 sq. ft., needs repair, presence of lead paint, most recent use—power station.

Bldg. 1285

Verona Test Annex

Verona Co: Oneida NY 13478-

Landholding Agency: Air Force

Property Number: 18200220034

Status: Unutilized

Comment: 4690 sq. ft., needs repair, presence of asbestos/lead paint, most recent use—research lab.

Bldg. 1287

Verona Test Annex

Verona Co: Oneida NY 13478-

Landholding Agency: Air Force

Property Number: 18200220035

Status: Unutilized

Comment: 1152 sq. ft., needs repair, presence of lead paint, most recent use—power station.

Social Sec. Admin. Bldg.

517 N. Barry St.

Olean NY 10278-0004

Landholding Agency: GSA

Property Number: 54200230009

Status: Excess

Comment: 9174 sq. ft., poor condition, most recent use—office.

GSA Number: 1-G-NY-0895

Hancock Army Complex

Track 4

Stewart Drive West

Cicero Co: Onondaga NY 13039-

Landholding Agency: GSA

Property Number: 54200310013

Status: Excess

Comment: 3 bunker-style structures and several small outbuildings, presence of asbestos, possible lead paint, most recent use—admin/training/storage.

GSA Number: 1-D-NY-803

Ohio

Bldg.—Berlin Lake 7400 Bedell Road

Berlin Center Co: Mahoning OH 44401-9797

Landholding Agency: COE

Property Number: 31199640001

Status: Unutilized

Comment: 1420 sq. ft., 2-story brick w/garage and basement, most recent use—residential, secured w/alternate access.

Bldg. 116

VA Medical Center

Dayton Co: Montgomery OH 45428-

Landholding Agency: VA

Property Number: 97199920002

Status: Unutilized

Comment: 3 floors, potential utilities, needs major rehab, presence of asbestos/lead paint, historic property.

Pennsylvania

Tract 403A

Grays Landing Lock & Dam Project

Greensboro Co: Greene PA 15338-

Landholding Agency: COE

Property Number: 31199430021

Status: Unutilized

Comment: 620 sq. ft., 2-story, needs repair, most recent use—residential, if used for habitation must be flood proofed or removed off-site.

Tract 403B

Grays Landing Lock & Dam Project

Greensboro Co: Greene PA 15338-

Landholding Agency: COE

Property Number: 31199430022

Status: Unutilized

Comment: 1600 sq. ft., 2-story, brick structure, needs repair, most recent use—residential, if used for habitation must be flood proofed or removed off-site.

Tract 403C

Grays Landing Lock & Dam Project

Greensboro Co: Greene PA 15338-

Landholding Agency: COE

Property Number: 31199430023

Status: Unutilized

Comment: 672 sq. ft., 2-story carriage house/stable barn type structure, needs repair, most recent use—storage/garage, if used for habitation must be flood proofed or removed.

Tennessee

3 Facilities, Guard Posts

Volunteer Army Ammunition Plant

Chattanooga Co: Hamilton TN 37421-

Landholding Agency: GSA

Property Number: 54199930011

Status: Surplus

Comment: 48-64 sq. ft., most recent use—access control, property was published in error as available on 2/11/00.

GSA Number: 4-D-TN-594F

Washington

22 Bldgs./Geiger Heights

Fairchild AFB

Spokane WA 99224-

Landholding Agency: Air Force

Property Number: 18200420001

Status: Unutilized

Comment: 1625 sq. ft., possible asbestos/lead paint, most recent use—residential.

Bldg. 404/Geiger Heights

Fairchild AFB

Spokane WA 99224-

Landholding Agency: Air Force

Property Number: 18200420002

Status: Unutilized

Comment: 1996 sq. ft., possible asbestos/lead paint, most recent use—residential.

11 Bldgs./Geiger Heights.

Fairchild AFB

Spokane WA 99224-

Landholding Agency: Air Force

Property Number: 18200420003

Status: Unutilized

Comment: 2134 sq. ft., possible asbestos/lead paint, most recent use—residential.

Bldg. 297/Geiger Heights

Fairchild AFB

Spokane WA 99224-

Landholding Agency: Air Force

Property Number: 18200420004

Status: Unutilized

Comment: 1425 sq. ft., possible asbestos/lead paint, most recent use—residential.

9 Bldgs./Geiger Heights

Fairchild AFB

Spokane WA 99224-

Landholding Agency: Air Force

Property Number: 18200420005

Status: Unutilized

Comment: 1620 sq. ft., possible asbestos/lead paint, most recent use—residential.

22 Bldgs./Geiger Heights

Fairchild AFB

Spokane WA 99224-

Landholding Agency: Air Force

Property Number: 18200420006

Status: Unutilized

Comment: 2850 sq. ft., possible asbestos/lead paint, most recent use—residential.

51 Bldgs./Geiger Heights

Fairchild AFB

Spokane WA 99224-

Landholding Agency: Air Force

Property Number: 18200420007

Status: Unutilized

Comment: 2574 sq. ft., possible asbestos/lead paint, most recent use—residential.

Bldg. 402/Geiger Heights

Fairchild AFB

Spokane WA 99224-

Landholding Agency: Air Force

Property Number: 18200420008

Status: Unutilized

Comment: 2451 sq. ft., possible asbestos/lead paint, most recent use—residential.

5 Bldgs./Geiger Heights

Fairchild AFB

222, 224, 271, 295, 260

Spokane WA 99224-

Landholding Agency: Air Force

Property Number: 18200420009

Status: Unutilized

Comment: 3043 sq. ft., possible asbestos/lead paint, most recent use—residential.

5 Bldgs./Geiger Heights

Fairchild AFB

102, 183, 118, 136, 113

Spokane WA 99224-

Landholding Agency: Air Force

Property Number: 18200420010

Status: Unutilized

Comment: 2599 sq. ft., possible asbestos/lead paint, most recent use—residential.

Wisconsin

Bldg. 2

VA Medical Center

5000 West National Ave.

Milwaukee WI 53295-

Landholding Agency: VA

Property Number: 97199830002

Status: Underutilized

Comment: 133,730 sq. ft., needs rehab, presence of asbestos/lead paint, most recent use—storage.

Land (by State)

Illinois

Lake Shelbyville

Shelbyville Co: Shelby & Moultrie IL 62565-9804

Landholding Agency: COE

Property Number: 31199240004

Status: Unutilized

Comment: 5 parcels of land equalling 0.70 acres, improved w/4 small equipment storage bldgs. and a small access road, easement restrictions.

Iowa

38 acres

VA Medical Center

1515 West Pleasant St.

Knoxville Co: Marion IA 50138-

Landholding Agency: VA

Property Number: 97199740001

Status: Unutilized

Comment: golf course.

Michigan

IOM Site

Chesterfield Road

Chesterfield Co: Macomb MI-

Landholding Agency: GSA

Property Number: 54200340008

Status: Excess

Comment: approx. 17.4 acres w/concrete block bldg. in poor condition, most recent use—radio antenna field, narrow right-of-way.

GSA Number: 1-D-MI-0603F

VA Medical Center

5500 Armstrong Road

Battle Creek Co: Calhoun MI 49016-

Landholding Agency: VA

Property Number: 97199010015

Status: Underutilized

Comment: 20 acres, used as exercise trails and storage areas, potential utilities.

New Mexico

Sites 69 & 70

Conchas Lake

San Miguel Co: NM

Landholding Agency: COE

Property Number: 31200520006

Status: Excess

Comment: 1/2 acre lots, closest town is approximately 32 miles away.

New York

VA Medical Center

Fort Hill Avenue

Canandaigua Co: Ontario NY 14424-

Landholding Agency: VA

Property Number: 97199010017

Status: Underutilized

Comment: 27.5 acres, used for school ballfield and parking, existing utilities easements, portion leased.

Pennsylvania

East Branch Clarion River Lake

Wilcox Co: Elk PA

Location: Free camping area on the right bank off entrance roadway.

Landholding Agency: COE

Property Number: 31199011012

Status: Underutilized

Comment: 1 acre; most recent use—free campground.

Dashields Locks and Dam

(Glenwillard, PA)

Crescent Twp. Co: Allegheny PA 15046-0475

Landholding Agency: COE

Property Number: 31199210009

Status: Unutilized

Comment: 0.58 acres, most recent use—baseball field.

VA Medical Center

New Castle Road

Butler Co: Butler PA 16001-

Landholding Agency: VA

Property Number: 97199010016

Status: Underutilized

Comment: Approx. 9.29 acres, used for patient recreation, potential utilities.

Land No. 645

VA. Medical Center

Highland Drive

Pittsburgh Co: Allegheny PA 15206-

Location: Between Campania and Wiltsie Streets.

Landholding Agency: VA

Property Number: 97199010080

Status: Unutilized

Comment: 90.3 acres, heavily wooded, property includes dump area and numerous site storm drain outfalls.

Land—34.16 acres

VA Medical Center

1400 Black Horse Hill Road

Coatesville Co: Chester PA 19320-

Landholding Agency: VA

Property Number: 97199340001

Status: Underutilized

Comment: 34.16 acres, open field, most recent use—recreation/buffer.

South Dakota

Tract 133

Ellsworth AFB

Box Elder Co: Pennington SD 57706-

Landholding Agency: Air Force

Property Number: 18200310004

Status: Unutilized

Comment: 53.23 acres.

Tract 67

Ellsworth AFB

Box Elder Co: Pennington SD 57706-

Landholding Agency: Air Force

Property Number: 18200310005

Status: Unutilized

Comment: 121 acres, bentonite layer in soil, causes movement.

Suitable/To Be Excessed Land (by State)

Georgia

Lake Sidney Lanier

Co: Forsyth GA 30130-

Location: Located on Two Mile Creek adj. to State Route 369.

Landholding Agency: COE

Property Number: 31199440010

Status: Unutilized

Comment: 0.25 acres, endangered plant species.

Lake Sidney Lanier—3 parcels

Gainesville Co: Hall GA 30503-

Location: Between Gainesville H.S. and State Route 53 By-Pass.

Landholding Agency: COE

Property Number: 31199440011

Status: Unutilized

Comment: 3 parcels totalling 5.17 acres, most recent use—buffer zone, endangered plant species.

Kansas

Parcel #1

Fall River Lake

Section 26

Co: Greenwood KS

Landholding Agency: COE

Property Number: 31199010065

Status: Unutilized

Comment: 126.69 acres; most recent use—recreation and leased cottage sites.

Parcel No. 2, El Dorado Lake

Approx. 1 mi east of the town of El Dorado

Co: Butler KS

Landholding Agency: COE

Property Number: 31199210005

Status: Unutilized

Comment: 11 acres, part of a relocated railroad bed, rural area.

Massachusetts

Buffumville Dam

Flood Control Project

Gale Road

Carlton Co: Worcester MA 01540-0155

Location: Portion of tracts B-200, B-248, B-251, B-204, B-247, B-200 and B-256

Landholding Agency: COE

Property Number: 31199010016

Status: Excess

Comment: 1.45 acres.

Tennessee

Tract D-456

Cheatham Lock and Dam

Ashland Co: Cheatham TN 37015-

Location: Right downstream bank of Sycamore Creek.

Landholding Agency: COE

Property Number: 31199010942

Status: Excess

Comment: 8.93 acres; subject to existing easements.

Texas

Corpus Christi Ship Channel

Corpus Christi Co: Neuces TX

Location: East side of Carbon Plant Road, approx. 14 miles NW of downtown Corpus Christi

Landholding Agency: COE

Property Number: 31199240001

Status: Unutilized

Comment: 4.4 acres, most recent use—farm land.

Unsuitable Properties—Buildings (by State)

Alabama

Bldg. 7

VA Medical Center

Tuskegee Co: Macon AL 36083-

Landholding Agency: VA

Property Number: 97199730001

Status: Underutilized

Reason: Secured Area.

Bldg. 8

VA Medical Center

Tuskegee Co: Macon AL 36083-

Landholding Agency: VA

Property Number: 97199730002

Status: Underutilized

Reason: Secured Area.

Alaska

Bldg. 15532

Elmendorf AFB

Elmendorf AFB AK 99506-

Landholding Agency: Air Force

Property Number: 18200220001

Status: Unutilized

Reasons: Within airport runway clear zone; Secured Area.

Bldg. 8354

Elmendorf AFB

Elmendorf AFB AK 99506-

Landholding Agency: Air Force

Property Number: 18200240001

Status: Unutilized

Reason: Extensive deterioration.

Bldg. 11827

Elmendorf AFB

Elmendorf AFB AK 99506-

Landholding Agency: Air Force

Property Number: 18200240002

Status: Unutilized

Reasons: Within 2000 ft. of flammable or explosive material; Secured Area.

Bldg. 7537

Elmendorf Air Force Base

Elmendorf AFB AK 99506-

Landholding Agency: Air Force

Property Number: 18200320001

Status: Unutilized

Reason: Extensive deterioration.

Bldg. 9340

Elmendorf Air Force Base

Elmendorf AFB AK 99506-

Landholding Agency: Air Force

Property Number: 18200320002

Status: Unutilized

Reason: Extensive deterioration.

Bldg. 9342

Elmendorf Air Force Base

Elmendorf AFB AK 99506-

Landholding Agency: Air Force

Property Number: 18200320003

Status: Unutilized

Reason: Extensive deterioration.

Bldg. 12737

Elmendorf Air Force Base

Elmendorf AFB AK 99506-

Landholding Agency: Air Force

Property Number: 18200320004

Status: Unutilized

Reason: Extensive deterioration.

Bldg. 13251

Elmendorf Air Force Base

Elemendorf AFB AK 99506-

Landholding Agency: Air Force

Property Number: 18200320005

Status: Unutilized

Reason: Extensive deterioration.

Bldg. 29453

Elmendorf Air Force Base

Elmendorf AFB AK 99506-

Landholding Agency: Air Force

Property Number: 18200320006

Status: Unutilized

Reason: Extensive deterioration.

Bldg. 6527

Elmendorf AFB

Elmendorf AFB AK 99506-

Landholding Agency: Air Force

Property Number: 18200330001

Status: Unutilized

Reason: Extensive deterioration.

Bldg. 12739

Elmendorf AFB

Elmendorf AFB AK 99506-

Landholding Agency: Air Force

Property Number: 18200330002

Status: Unutilized

Reason: Extensive deterioration.

Bldg. 4314

Elmendorf AFB

Elmendorf AFB AK 99506-

Landholding Agency: Air Force

Property Number: 18200340001

Status: Unutilized

Reason: Extensive deterioration.

Bldg. 6527

Elmendorf AFB

Elmendorf AFB AK 99506-

Landholding Agency: Air Force

Property Number: 18200340002

Status: Unutilized

Reason: Extensive deterioration.

Bldg. 7541

Elmendorf AFB

Elmendorf AFB AK 99506-

Landholding Agency: Air Force

Property Number: 18200340003

Status: Unutilized

Reason: Extensive deterioration.

Bldg. 8111

Elmendorf AFB

Elmendorf AFB AK 99506-

Landholding Agency: Air Force

Property Number: 18200340004

Status: Unutilized

Reason: Extensive deterioration.

Bldg. 9489

Elmendorf AFB

Elmendorf AFB AK 99506-

Landholding Agency: Air Force

Property Number: 18200340005

Status: Unutilized

Reason: Extensive deterioration.

Bldg. 10547

Elmendorf AFB

Elmendorf AFB AK 99506-

Landholding Agency: Air Force

Property Number: 18200340006

Status: Unutilized

Reason: Extensive deterioration.

Arkansas

Dwelling

Bull Shoals Lake/Dry Run Road

Oakland Co: Marion AR 72661-

Landholding Agency: COE

Property Number: 31199820001

Status: Unutilized

Reason: Extensive deterioration.

Helena Casting Plant

Helena Co: Phillips AR 72342-

Landholding Agency: COE

Property Number: 31200220001

Status: Unutilized

Reason: Extensive deterioration.

California

Bldg. 30101

Vandenberg AFB

Vandenberg Co: Santa Barbara CA 93437-

Landholding Agency: Air Force

Property Number: 18200210019

Status: Unutilized

Reason: Secured Area.

Bldgs. 30131, 30709

Vandenberg AFB

Vandenberg Co: Santa Barbara CA 93437-

Landholding Agency: Air Force

Property Number: 18200210020

Status: Unutilized

Reason: Secured Area.

Bldgs. 30137, 30701

Vandenberg AFB

Vandenberg Co: Santa Barbara CA 93437-

Landholding Agency: Air Force

Property Number: 18200210021

Status: Unutilized

Reason: Secured Area.

Bldg. 30235

Vandenberg AFB

Vandenberg Co: Santa Barbara CA 93437-

Landholding Agency: Air Force

Property Number: 18200210022

Status: Unutilized

Reason: Secured Area.

Bldgs. 30238, 30446

Vandenberg AFB

Vandenberg Co: Santa Barbara CA-

Landholding Agency: Air Force

Property Number: 18200210023

Status: Unutilized

Reason: Secured Area.

Bldgs. 30239, 30444

Vandenberg AFB

Vandenberg Co: Santa Barbara CA 93437-

Landholding Agency: Air Force

Property Number: 18200210024

Status: Unutilized

Reason: Secured Area.

Bldgs. 30306, 30335, 30782

Vandenberg AFB

Vandenberg Co: Santa Barbara CA 93437-

Landholding Agency: Air Force

Property Number: 18200210025

Status: Unutilized

Reason: Secured Area.

Bldgs. 30339, 30340, 30341

Vandenberg AFB

Vandenberg Co: Santa Barbara CA 93437-

Landholding Agency: Air Force

Property Number: 18200210026

Status: Unutilized

Reason: Secured Area.

Bldg. 30447

Vandenberg AFB

Vandenberg Co: Santa Barbara CA 93437-

Landholding Agency: Air Force

Property Number: 18200210027

Status: Unutilized

Reason: Secured Area.

Bldg. 30524

Vandenberg AFB

Vandenberg Co: Santa Barbara CA 93437-

Landholding Agency: Air Force

Property Number: 18200210028

Status: Unutilized

Reason: Secured Area.

Bldg. 30647

Vandenberg AFB

Vandenberg Co: Santa Barbara CA 93437-

Landholding Agency: Air Force

Property Number: 18200210029

Status: Unutilized

Reason: Secured Area.

Bldgs. 30710, 30717

Vandenberg AFB

Vandenberg Co: Santa Barbara CA 93437-

Landholding Agency: Air Force

Property Number: 18200210030

Status: Unutilized

Reason: Secured Area.

Bldgs. 30718, 30607

Vandenberg AFB

Vandenberg Co: Santa Barbara CA 93437-

Landholding Agency: Air Force

Property Number: 18200210031

Status: Unutilized

Reason: Secured Area.

Bldgs. 30722, 30735

Vandenberg AFB

Vandenberg Co: Santa Barbara CA 93437-

Landholding Agency: Air Force

Property Number: 18200210032

Status: Unutilized

Reason: Secured Area.

Bldgs. 30775, 30777

Vandenberg AFB

Vandenberg Co: Santa Barbara CA 93437-

Landholding Agency: Air Force

Property Number: 18200210033

Status: Unutilized

Reason: Secured Area.

Bldgs. 30830, 30837

Vandenberg AFB

Vandenberg Co: Santa Barbara CA 93437-

Landholding Agency: Air Force

Property Number: 18200210034

Status: Unutilized

Reason: Secured Area.

Bldgs. 30839, 30844, 30854

Vandenberg AFB

Vandenberg Co: Santa Barbara CA 93437-

Landholding Agency: Air Force

Property Number: 18200210035

Status: Unutilized

Reason: Secured Area.

Bldg. 06522

Vandenberg AFB

Vandenberg AFB Co: Santa Barbara CA 93437-

Landholding Agency: Air Force

Property Number: 18200330004

Status: Unutilized

Reasons: Secured Area, Extensive deterioration.

23 Bldgs.

Edwards AFB

Edwards AFB Co: Kern CA 93524-

Location: 7022-7037, 7039-7040, 7042, 7044, 7046-7048

Landholding Agency: Air Force

Property Number: 18200410002

Status: Unutilized

Reason: Secured Area.

Bldg. 98

Vandenberg AFB

Oak Mountain Annex

Santa Barbara Co: CA 93437-

Landholding Agency: Air Force

Property Number: 18200430001

Status: Unutilized

Reasons: Secured Area, Extensive deterioration.

Bldg. 488

Vandenberg AFB

Santa Barbara Co: CA 93437-

Landholding Agency: Air Force

Property Number: 18200430002

Status: Unutilized

Reasons: Secured Area, Extensive deterioration.

Bldg. 535

Vandenberg AFB

Santa Barbara Co: CA 93437-

Landholding Agency: Air Force

Property Number: 18200430003

Status: Unutilized

Reasons: Secured Area, Extensive deterioration.

Bldgs. 734, 738-739

Vandenberg AFB

Santa Barbara Co: CA 93437-

Landholding Agency: Air Force

Property Number: 18200430004

Status: Unutilized

Reason: Secured Area.

Bldg. 946

Vandenberg AFB

Santa Barbara Co: CA 93437-

Landholding Agency: Air Force

Property Number: 18200430005

Status: Unutilized

Reason: Secured Area.

Bldgs. 1200, 1201

Vandenberg AFB

Santa Barbara Co: CA 93437-

Landholding Agency: Air Force

Property Number: 18200430006

Status: Unutilized

Reasons: Secured Area, Extensive deterioration.

Bldg. 1205

Vandenberg AFB

Santa Barbara Co: CA 93437-

Landholding Agency: Air Force

Property Number: 18200430007

Status: Unutilized

Reasons: Secured Area, Extensive deterioration.

36 Bldgs.

Edwards AFB

Area F Housing

Kern Co: CA 93524-

Landholding Agency: Air Force

Property Number: 18200430008

Status: Unutilized

Reasons: Secured Area, Extensive deterioration.

Bldgs. 7105, 7106

Edwards AFB

Area C

Kern Co: CA 93524-

Landholding Agency: Air Force

Property Number: 18200430009

Status: Unutilized

Reasons: Secured Area, Extensive deterioration.

28 Bldgs.

Edwards AFB

Area C

Kern Co: CA 93524-

Landholding Agency: Air Force

Property Number: 18200440001

Status: Excess

Reasons: Secured Area, Extensive deterioration.

Bldg. 719

Vandenberg AFB

Lompoc Co: Santa Barbara CA 93437-

Landholding Agency: Air Force

Property Number: 18200510001

Status: Unutilized

Reason: Secured Area.

Bldg. 725

Vandenberg AFB

Lompoc Co: Santa Barbara CA 93437-

Landholding Agency: Air Force

Property Number: 18200510002

Status: Unutilized

Reason: Secured Area.

Bldg. 729

Vandenberg AFB

Lompoc Co: Santa Barbara CA 93437-

Landholding Agency: Air Force

Property Number: 18200510003

Status: Unutilized

Reason: Secured Area.

Bldg. 734

Vandenberg AFB

Lompoc Co: Santa Barbara CA 93437-

Landholding Agency: Air Force

Property Number: 18200510004

Status: Unutilized

Reason: Secured Area.

Bldg. 737

Vandenberg AFB

Lompoc Co: Santa Barbara CA 93437-

Landholding Agency: Air Force

Property Number: 18200510005

Status: Unutilized

Reason: Secured Area.

Bldg. 742

Vandenberg AFB

Lompoc Co: Santa Barbara CA 93437-

Landholding Agency: Air Force

Property Number: 18200510006

Status: Unutilized

Reason: Secured Area.

Bldg. 746

Vandenberg AFB

Lompoc Co: Santa Barbara CA 93437-

Landholding Agency: Air Force

Property Number: 18200510007

Status: Unutilized

Reason: Secured Area.

87 Buildings

Edwards AFB

Area “F”

Kern Co: CA 93524-

Landholding Agency: Air Force

Property Number: 18200510008

Status: Unutilized

Reasons: Secured Area, Extensive deterioration.

7 Buildings

Edwards AFB

Area “C”

Kern Co: CA 93524-

Landholding Agency: Air Force

Property Number: 18200510009

Status: Unutilized

Reasons: Secured Area, Extensive deterioration.

Bldg. 11237

Vandenberg AFB

Lompoc Co: Santa Barbara CA 93437-

Landholding Agency: Air Force

Property Number: 18200520001

Status: Unutilized

Reason: Secured Area.

Bldg. 02423

Edwards AFB

Kern Co: CA 93524-

Landholding Agency: Air Force

Property Number: 18200530001

Status: Unutilized

Reason: Secured Area.

205 Bldgs., Area F

Edwards AFB

Kern Co: CA 93524-

Landholding Agency: Air Force

Property Number: 18200530002

Status: Excess

Reasons: Secured Area, Extensive deterioration.

Soil & Materials Testing Lab

Sausalito CA 00000-

Landholding Agency: COE

Property Number: 31199920002

Status: Excess

Reason: contamination.

Facility 35

Naval Weapons Station

Seal Beach Detachment

Pittsburgh Co: CA

Landholding Agency: GSA

Property Number: 54200520016

Status: Excess

Reason: Within 2000 ft. of flammable or explosive material.

GSA Number: 9-N-CA-1630.

Bldgs. 8902-8905

Naval Weapons Station

Seal Beach Co: CA 90740-

Landholding Agency: Navy

Property Number: 77200530003

Status: Excess

Reason: Extensive deterioration.

Bldgs. 8915, 8931

Naval Weapons Station

Seal Beach Co: CA 90740-

Landholding Agency: Navy

Property Number: 77200530004

Status: Excess

Reason: Extensive deterioration.

Bldgs. 11, 112

Naval Weapons Station

Seal Beach Co: CA 90740-

Landholding Agency: Navy

Property Number: 77200530005

Status: Unutilized

Reason: Extensive deterioration.

Bldg. 805

Naval Weapons Station

Seal Beach Co: CA 90740-

Landholding Agency: Navy

Property Number: 77200530006

Status: Unutilized

Reason: Extensive deterioration.

Bldgs. 810 thru 823

Naval Weapons Station

Seal Beach Co: CA 90740-

Landholding Agency: Navy

Property Number: 77200530007

Status: Unutilized

Reason: Extensive deterioration.

Bldgs. 851, 859, 864

Naval Weapons Station

Seal Beach Co: CA 90740-

Landholding Agency: Navy

Property Number: 77200530008

Status: Unutilized

Reason: Extensive deterioration.

Bldg. 1146

Naval Base

Port Hueneme Co: Ventura CA 93042-

Landholding Agency: Navy

Property Number: 77200530009

Status: Unutilized

Reason: Extensive deterioration.

Bldg. 1358

Naval Base

Port Hueneme Co: Ventura CA 93042-

Landholding Agency: Navy

Property Number: 77200530010

Status: Unutilized

Reason: Extensive deterioration.

Bldgs. 1370, 1371, 1372

Naval Base

Port Hueneme Co: Ventura CA 93042-

Landholding Agency: Navy

Property Number: 77200530011

Status: Unutilized

Reason: Extensive deterioration.

Bldg. 115

Naval Base

San Diego Co: CA -

Landholding Agency: Navy

Property Number: 77200530012

Status: Excess

Reason: Extensive deterioration.

Bldg. 1674

Marine Corps Base

Camp Pendleton Co: CA 92055-

Landholding Agency: Navy

Property Number: 77200530027

Status: Excess

Reasons: Secured Area, Extensive deterioration.

Bldgs. 2636, 2651, 2658

Marine Corps Base

Camp Pendleton Co: CA 92055-

Landholding Agency: Navy

Property Number: 77200530028

Status: Excess

Reasons: Secured Area, Extensive deterioration.

4 Bldgs.

Marine Corps Base

Camp Pendleton Co: CA 92055-

Location: 26053, 26054, 26056, 26059

Landholding Agency: Navy

Property Number: 77200530029

Status: Excess

Reasons: Secured Area, Extensive deterioration.

Bldgs. 53333, 53334

Marine Corps Base

Camp Pendleton Co: CA 92055-

Landholding Agency: Navy

Property Number: 77200530030

Status: Excess

Reasons: Secured Area, Extensive deterioration.

Bldgs. 53507, 53569

Marine Corps Base

Camp Pendleton Co: CA 92055-

Landholding Agency: Navy

Property Number: 77200530031

Status: Excess

Reasons: Secured Area, Extensive deterioration.

Bldg. 170111

Marine Corps Base

Camp Pendleton Co: CA 92055-

Landholding Agency: Navy

Property Number: 77200530032

Status: Excess

Reasons: Secured Area, Extensive deterioration.

Colorado

Bldg. 105

Peterson AFB

Colorado Springs Co: El Paso CO 80914-

Landholding Agency: Air Force

Property Number: 18200310003

Status: Underutilized

Reasons: Within airport runway clear zone, Secured Area.

Bldg. 106

Peterson AFB

Colorado Springs Co: El Paso CO 80914-8090

Landholding Agency: Air Force

Property Number: 18200340010

Status: Underutilized

Reasons: Within 2000 ft. of flammable or explosive material, Within airport runway clear zone, Secured Area.

Bldg. 107

Peterson AFB

Colorado Springs Co: El Paso CO 80914-8090

Landholding Agency: Air Force

Property Number: 18200340011

Status: Underutilized

Reasons: Within 2000 ft. of flammable or explosive material, Within airport runway clear zone, Secured Area.

Bldg. 108

Peterson AFB

Colorado Springs Co: El Paso CO 80914-8090

Landholding Agency: Air Force

Property Number: 18200340012

Status: Underutilized

Reasons: Within 2000 ft. of flammable or explosive material, Within airport runway clear zone, Secured Area.

Connecticut

Hezekiah S. Ramsdell Farm

West Thompson Lake

North Grosvenordale Co: Windham CT 06255-9801

Landholding Agency: COE

Property Number: 31199740001

Status: Unutilized

Reasons: Floodway, Extensive deterioration.

Florida

Bldg. 1345

Cape Canaveral AFS

Cape Canaveral Co: Brevard FL 32907-

Landholding Agency: Air Force

Property Number: 18200210016

Status: Unutilized

Reasons: Within 2000 ft. of flammable or explosive material, Secured Area.

Bldg. 55122

Cape Canaveral AFS

Cape Canaveral Co: Brevard FL 32907-

Landholding Agency: Air Force

Property Number: 18200210018

Status: Unutilized

Reasons: Within 2000 ft. of flammable or explosive material, Secured Area.

Bldg. 1705

Cape Canaveral AFS

Cape Canaveral Co: Brevard FL 32907-

Landholding Agency: Air Force

Property Number: 18200330005

Status: Unutilized

Reasons: Within 2000 ft. of flammable or explosive material, Secured Area, Extensive deterioration.

Bldg. 70500 V.I.B.

Cape Canaveral

Brevard Co: FL 32907-

Landholding Agency: Air Force

Property Number: 18200510010

Status: Underutilized

Reason: Secured Area

Bldg. SF-15

Sub-Office Operations

Clewiston Co: Hendry FL 33440-

Landholding Agency: COE

Property Number: 31200430003

Status: Unutilized

Reasons: Secured Area, Extensive deterioration.

Bldg. SF-16

Sub-Office Operations

Clewiston Co: Hendry FL 33440-

Landholding Agency: COE

Property Number: 31200430004

Status: Unutilized

Reason: Secured Area.

Bldg. SF-17

Sub-Office Operations

Clewiston Co: Hendry FL 33440-

Landholding Agency: COE

Property Number: 31200430005

Status: Unutilized

Reasons: Secured Area, Extensive deterioration.

Bldgs. V1221 A&B

Naval Air Station

Sigsbee Park

Key West Co: Monroe FL 33040-

Landholding Agency: Navy

Property Number: 77200530013

Status: Unutilized

Reasons: Secured Area, Extensive deterioration.

Georgia

Bldg. 340

Savannah IAP

Garden City Co: Chatham GA 31418-

Landholding Agency: Air Force

Property Number: 18200430010

Status: Excess

Reason: Secured Area.

Bldg. #WRSH18

West Point Lake

West Point Co: GA 31833-

Landholding Agency: COE

Property Number: 31200430006

Status: Unutilized

Reason: Secured Area.

Bldg. W03

West Point Lake

West Point Co: GA 31833-

Landholding Agency: COE

Property Number: 31200430007

Status: Unutilized

Reasons: Within 2000 ft. of flammable or explosive material, Secured Area, Extensive deterioration.

Gatehouse #W03

West Point Lake

West Point Co: GA 31833-9517

Landholding Agency: COE

Property Number: 31200510001

Status: Unutilized

Reason: Extensive deterioration.

WRSH14, WRSH15, WRSH18

West Point Lake

West Point Co: GA 31833-9517

Landholding Agency: COE

Property Number: 31200510002

Status: Unutilized

Reason: Extensive deterioration.

Pumphouse

Carters Lake

Oakman Co: GA 30732-

Landholding Agency: COE

Property Number: 31200520002

Status: Unutilized

Reason: Extensive deterioration.

Bldgs. ASBC01, ASBC02

Asbury Park

Hartwell Co: GA 30643-

Landholding Agency: COE

Property Number: 31200520003

Status: Unutilized

Reason: Extensive deterioration.

Hawaii

Bldg. 503

Bellows AFS

Bellows AFS HI-

Landholding Agency: Air Force

Property Number: 18200330007

Status: Unutilized

Reasons: Secured Area, Extensive deterioration.

Bldg. 907

Hickam AFB

Hickam AFB HI

Landholding Agency: Air Force

Property Number: 18200330009

Status: Unutilized

Reasons: Secured Area, Extensive deterioration.

Bldg. 954

Hickam AFB

Hickam AFB HI-

Landholding Agency: Air Force

Property Number: 18200330010

Status: Unutilized

Reasons: Secured Area, Extensive deterioration.

Bldg. 980

Hickam AFB

Hickam AFB HI-

Landholding Agency: Air Force

Property Number: 18200330011

Status: Unutilized

Reason: Secured Area.

Bldg. 992

Hickam AFB

Hickam AFB HI-

Landholding Agency: Air Force

Property Number: 18200330012

Status: Unutilized

Reason: Secured Area.

Bldg. 1035

Hickam AFB

Hickam AFB HI-

Landholding Agency: Air Force

Property Number: 18200330013

Status: Unutilized

Reason: Secured Area.

Bldgs. 1709, 1721

Hickam AFB

Hickam AFB HI-

Landholding Agency: Air Force

Property Number: 18200330014

Status: Unutilized

Reasons: Secured Area, Extensive deterioration.

Bldg. 2041

Hickam AFB

Hickam AFB HI-

Landholding Agency: Air Force

Property Number: 18200330015

Status: Unutilized

Reasons: Secured Area, Extensive deterioration.

Bldg. 2044

Hickam AFB

Hickam AFB HI-

Landholding Agency: Air Force

Property Number: 18200330016

Status: Unutilized

Reasons: Secured Area, Extensive deterioration.

Bldg. 2104

Hickam AFB

Hickam AFB HI-

Landholding Agency: Air Force

Property Number: 18200330017

Status: Unutilized

Reason: Secured Area.

Bldg. 3018

Hickam AFB

Hickam AFB HI-

Landholding Agency: Air Force

Property Number: 18200330018

Status: Unutilized

Reasons: Secured Area, Extensive deterioration.

Bldg. 3202

Hickam AFB

Hickam AFB HI-

Landholding Agency: Air Force

Property Number: 18200330019

Status: Unutilized

Reasons: Within 2000 ft. of flammable or explosive material, Secured Area, Extensive deterioration.

Bldgs. 3338, 3356

Hickam AFB

Hickam AFB HI-

Landholding Agency: Air Force

Property Number: 18200330020

Status: Unutilized

Reasons: Secured Area, Extensive deterioration.

Bldg. 3432

Hickam AFB

Hickam AFB HI-

Landholding Agency: Air Force

Property Number: 18200330021

Status: Unutilized

Reasons: Secured Area, Extensive deterioration.

Bldg. 3375

Hickam AFB

Hickam AFB HI-

Landholding Agency: Air Force

Property Number: 18200330031

Status: Unutilized

Reason: Secured Area.

Bldgs. 743, 1002, 6100

Johnston Atoll Airfield

Honolulu HI-

Landholding Agency: Air Force

Property Number: 18200340013

Status: Unutilized

Reasons: Within 2000 ft. of flammable or explosive material, Within airport runway clear zone, Extensive deterioration.

Bldgs. 1091, 1092

Hickam AFB

Hickam Co: HI-

Landholding Agency: Air Force

Property Number: 18200510011

Status: Unutilized

Reasons: Within airport runway clear zone, Secured Area, Extensive deterioration.

Bldg. 1864

Hickam AFB

Hickam Co: HI-

Landholding Agency: Air Force

Property Number: 18200510012

Status: Unutilized

Reasons: Secured Area, Extensive deterioration.

Bldg. 2074

Hickam AFB

Hickam Co: HI-

Landholding Agency: Air Force

Property Number: 18200510013

Status: Unutilized

Reasons: Secured Area, Extensive deterioration.

Bldg. 2174

Hickam AFB

Hickam Co: HI-

Landholding Agency: Air Force

Property Number: 18200510014

Status: Unutilized

Reasons: Within 2000 ft. of flammable or explosive material, Secured Area.

Bldg. 3426

Hickam AFB

Hickam Co: HI-

Landholding Agency: Air Force

Property Number: 18200510015

Status: Unutilized

Reasons: Floodway, Secured Area, Extensive deterioration.

Bldg. 3431

Hickam AFB

Hickam Co: HI

Landholding Agency: Air Force

Property Number: 18200510016

Status: Unutilized

Reasons: Floodway, Secured Area, Extensive deterioration.

Bldgs. 12, 14

Kokee AFB

Kokee Co: HI-

Landholding Agency: Air Force

Property Number: 18200510017

Status: Unutilized

Reasons: Secured Area, Extensive deterioration.

Bldg. 3389

Hickam AFB

Hickam Co: HI-

Landholding Agency: Air Force

Property Number: 18200520002

Status: Unutilized

Reasons: Secured Area, Extensive deterioration.

Bldg. 4027

Hickam AFB

Hickam Co: HI-

Landholding Agency: Air Force

Property Number: 18200530003

Status: Unutilized

Reasons: Secured Area, Extensive deterioration.

Idaho

Bldg. 1328

Mountain Home AFB

Mountain Home Co: Elmore ID 83648-

Landholding Agency: Air Force

Property Number: 18200240003

Status: Excess

Reason: Within 2000 ft. of flammable or explosive material.

Bldg. AFD0070

Albeni Falls Dam

Oldtown Co: Bonner ID 83822-

Landholding Agency: COE

Property Number: 31199910001

Status: Unutilized

Reason: Extensive deterioration.

Illinois

Bldg. 3101

Capital MAP, DCFT

Springfield Co: Sangamon IL 62707-

Landholding Agency: Air Force

Property Number: 18200520003

Status: Excess

Reasons: Within 2000 ft. of flammable or explosive material, Secured Area.

Bldg. 947

FERMILAB

Batavia Co: DuPage IL 60510-

Landholding Agency: Energy

Property Number: 41200530004

Status: Excess

Reason: Extensive deterioration.

Bldg. 42

Naval Station

Great Lakes Co: IL 60088-

Landholding Agency: Navy

Property Number: 77200530014

Status: Excess

Reasons: Secured Area, Extensive deterioration.

Indiana

Bldgs. 1871, 2636

Naval Support Activity

Crane Co: Martin IN 47522-

Landholding Agency: Navy

Property Number: 77200530015

Status: Unutilized

Reasons: Within 2000 ft. of flammable or explosive material, S ecured Area, Extensive deterioration.

Bldg. 21, VA Medical Center

East 38th Street

Marion Co: Grant IN 46952-

Landholding Agency; VA

Property Number: 97199230001

Status: Excess

Reason: Extensive deterioration.

Bldg. 22, VA Medical Center

East 38th Street

Marion Co: Grant IN 46952-

Landholding Agency: VA

Property Number: 97199230002

Status: Excess

Reason: Extensive deterioration.

Bldg. 62, VA Medical Center

East 38th Street

Marion Co: Grant IN 46952-

Landholding Agency: VA

Property Number: 97199230003

Status: Excess

Reason: Extensive deterioration.

Iowa

Bldg. B275

Sioux Gateway Airport

Sioux Co: Woodbury IA 51111-

Landholding Agency: Air Force

Property Number: 18200530004

Status: Excess

Reasons: Within 2000 ft. of flammable or explosive material, Secured Area.

Treatment Plant

South Fork Park

Mystic Co: Appanoose IA 52574-

Landholding Agency: COE

Property Number: 31200220002

Status: Excess

Reason: Extensive deterioration.

Storage Bldg.

Rathbun Project

Moravia Co: Appanoose IA 52571-

Landholding Agency: COE

Property Number: 31200330001

Status: Excess

Reason: Extensive deterioration.

Bldg.

Island View Park

Rathbun Project

Centerville Co: Appanoose IA 52544-

Landholding Agency: COE

Property Number: 31200330002

Status: Excess

Reason: Extensive deterioration.

Tract 137

Camp Dodge

Johnston Co: Polk IA 50131-1902

Landholding Agency: COE

Property Number: 31200410001

Status: Excess

Reason: Extensive deterioration.

Rathbun 29369, 29368

Island View park

Centerville Co: Appanoose IA 52544-

Landholding Agency: COE

Property Number: 31200510003

Status: Excess

Reason: Extensive deterioration.

RTHBUN-79326

Buck Creek Park

Centerville Co: Appanoose IA 52544-

Landholding Agency: COE

Property Number: 31200520004

Status: Excess

Reason: Extensive deterioration.

Kansas

No. 01017

Kanopolis Project

Marquette Co: Ellsworth KS 67456-

Landholding Agency: COE

Property Number: 31200210001

Status: Unutilized

Reason: Extensive deterioration.

No. 01020

Kanopolis Project

Marquette Co: Ellsworth KS 67456-

Landholding Agency: COE

Property Number: 31200210002

Status: Unutilized

Reason: Extensive deterioration.

No. 61001

Kanopolis Project

Marquette Co: Ellsworth KS 67456-

Landholding Agency: COE

Property Number: 31200210003

Status: Unutilized

Reason: Extensive deterioration.

Bldg. #1

Kanopolis Project

Marquette Co: Ellsworth KS 67456-

Landholding Agency: COE

Property Number: 31200220003

Status: Excess

Reason: Extensive deterioration.

Bldg. #2

Kanopolis Project

Marquette Co: Ellsworth KS 67456-

Landholding Agency: COE

Property Number: 31200220004

Status: Excess

Reason: Extensive deterioration.

Bldg. #4

Kanopolis Project

Marquette Co: Ellsworth KS 67456-

Landholding Agency: COE

Property Number: 31200220005

Status: Excess

Reason: Extensive deterioration.

Comfort Station

Clinton Lake Project

Lawrence Co: Douglas KS 66049-

Landholding Agency: COE

Property Number: 31200220006

Status: Excess

Reason: Extensive deterioration.

Privie

Perry Lake

Perry Co: Jefferson KS 66074-

Landholding Agency: COE

Property Number: 31200310004

Status: Unutilized

Reason: Extensive deterioration.

Shower

Perry Lake

Perry Co: Jefferson KS 66073-

Landholding Agency: COE

Property Number: 31200310005

Status: Unutilized

Reason: Extensive deterioration.

Tool Shed

Perry Lake

Perry Co: Jefferson KS 66073-

Landholding Agency: COE

Property Number: 31200310006

Status: Unutilized

Reason: Extensive deterioration.

Bldg. M37

Minooka Park

Sylvan Grove Co: Russell KS 67481-

Landholding Agency: COE

Property Number: 31200320002

Status: Excess

Reason: Extensive deterioration.

Bldg. M38

Minooka Park

Sylvan Grove Co: Russell KS 67481-

Landholding Agency: COE

Property Number: 31200320003

Status: Excess

Reason: Extensive deterioration.

Bldg. L19

Lucas Park

Sylvan Grove Co: Russell KS 67481-

Landholding Agency: COE

Property Number: 31200320004

Status: Unutilized

Reason: Extensive deterioration.

2 Bldgs.

Tuttle Creek Lake

Near Shelters #3 & #4

Riley KS 66502-

Landholding Agency: COE

Property Number: 31200330003

Status: Excess

Reason: Extensive deterioration.

6 Bldgs.

Cottonwood Point/Hillsboro Cove

Marion Co: Coffey KS 66861-

Landholding Agency: COE

Property Number: 31200340001

Status: Excess

Reason: Extensive deterioration.

20 Bldgs.

Riverside

Burlington Co: Coffey KS 66839-8911

Landholding Agency: COE

Property Number: 31200340002

Status: Excess

Reason: Extensive deterioration.

2 Bldgs.

Canning Creek/Richey Cove

Council Grove Co: Morris KS 66846-9322

Landholding Agency: COE

Property Number: 31200340003

Status: Excess

Reason: Extensive deterioration.

6 Bldgs.

Santa Fe Trail/Outlet Channel

Council Grove Co: Morris KS 66846-

Landholding Agency: COE

Property Number: 31200340004

Status: Excess

Reason: Extensive deterioration.

Residence

Melvern Lake Project

Melvern Co: Osage KS 66510-

Landholding Agency: COE

Property Number: 31200340005

Status: Excess

Reason: Extensive deterioration.

2 Bldgs.

Management Park

Vassar KS 66543-

Landholding Agency: COE

Property Number: 31200340006

Status: Excess

Reason: Extensive deterioration.

Bldg.

Hickory Campground

Lawrence KS 66049-

Landholding Agency: COE

Property Number: 31200340007

Status: Excess

Reason: Extensive deterioration.

Bldg.

Rockhaven Park Area

Lawrence KS 66049-

Landholding Agency: COE

Property Number: 31200340008

Status: Excess

Reason: Extensive deterioration.

Bldg.

Overlook Park Area

Lawrence KS 66049-

Landholding Agency: COE

Property Number: 31200340009

Status: Excess

Reason: Extensive deterioration.

Bldg.

Walnut Campground

Lawrence KS 66049-

Landholding Agency: COE

Property Number: 31200340010

Status: Excess

Reason: Extensive deterioration.

Bldg.

Cedar Ridge Campground

Lawrence KS 66049-

Landholding Agency: COE

Property Number: 31200340011

Status: Excess

Reason: Extensive deterioration.

Bldg.

Woodridge Park Area

Lawrence KS 66049-

Landholding Agency: COE

Property Number: 31200340012

Status: Excess

Reason: Extensive deterioration.

8 Bldgs.

Tuttle Cove Park

Manhattan Co: Riley KS 66502-

Landholding Agency: COE

Property Number: 31200410002

Status: Unutilized

Reason: Extensive deterioration.

2 Bldgs.

Old Garrison Campground

Pottawatomie KS-

Landholding Agency: COE

Property Number: 31200410003

Status: Unutilized

Reason: Extensive deterioration.

2 Bldgs.

School Creek ORV Area

Junction City KS 66441-

Landholding Agency: COE

Property Number: 31200410004

Status: Excess

Reason: Extensive deterioration.

Bldg.

Slough Creek Park

Perry Co: Jefferson KS 66073-

Landholding Agency: COE

Property Number: 31200410005

Status: Excess

Reason: Extensive deterioration.

Bldg.

Spillway Boat Ramp

Sylvan Grove Co: KS 67481-

Landholding Agency: COE

Property Number: 31200430008

Status: Excess

Reason: Extensive deterioration.

Bldg.

Minooka Park Area

Sylvan Grove Co: KS 67481-

Landholding Agency: COE

Property Number: 31200430009

Status: Excess

Reason: Extensive deterioration.

Bldg.

Lucas Park Area

Sylvan Grove Co: KS 67481-

Landholding Agency: COE

Property Number: 31200430010

Status: Excess

Reason: Extensive deterioration.

Bldg.

Sylvan Park Area

Sylvan Grove Co: KS 67481-

Landholding Agency: COE

Property Number: 31200430011

Status: Excess

Reason: Extensive deterioration.

Bldg.

North Outlet Area

Junction City Co: KS 66441-

Landholding Agency: COE

Property Number: 31200430012

Status: Excess

Reason: Extensive deterioration.

3 Vault Toilets

West Rolling Hills

Milford Lake

Junction City Co: KS 66441-

Landholding Agency: COE

Property Number: 31200440003

Status: Excess

Reason: Extensive deterioration.

Vault Toilet

East Rolling Hills

Milford Lake

Junction City Co: KS 66441

Landholding Agency: COE

Property Number: 31200440004

Status: Excess

Reason: Extensive deterioration.

Bldgs. 25002, 35012

Lucas Park

Sylvan Grove Co: KS 67481-

Landholding Agency: COE

Property Number: 31200510004

Status: Excess

Reason: Extensive deterioration.

Bldgs. 25006, 25038

Lucas Group Camp

Sylvan Grove Co: KS 67481-

Landholding Agency: COE

Property Number: 31200510005

Status: Excess

Reason: Extensive deterioration.

Bldgs. L37, L38

Lucas Park

Sylvan Grove Co: KS 67481-

Landholding Agency: COE

Property Number: 31200520005

Status: Excess

Reason: Extensive deterioration.

2 Bldgs.

Mann's Cove PUA

Fall River Co: Greenwood KS 67047-

Landholding Agency: COE

Property Number: 31200530002

Status: Excess

Reason: Extensive deterioration.

16 Bldgs.

Cottonwood Point

Marion Co: KS-

Landholding Agency: COE

Property Number: 31200530003

Status: Excess

Reason: Extensive deterioration.

3 Bldgs.

Damsite PUA

Fall River Co: Greenwood KS 67047-

Landholding Agency: COE

Property Number: 31200530004

Status: Excess

Reason: Extensive deterioration.

2 Bldgs.

Damsite PUA

Fall River Co: Greenwood KS 6047-

Landholding Agency: COE

Property Number: 31200530005

Status: Excess

Reason: Extensive deterioration.

Bldgs. L05, L06

Lucas Park Overlook

Sylvan Grove Co: KS 67481-

Landholding Agency: COE

Property Number: 31200530006

Status: Excess

Reason: Extensive deterioration.

Kentucky

Spring House

Kentucky River Lock and Dam No. 1

Highway 320

Carrollton Co: Carroll KY 41008-

Landholding Agency: COE

Property Number: 21199040416

Status: Unutilized

Reason: Spring House.

6-Room Dwelling

Green River Lock and Dam No. 3

Rochester Co: Butler KY 42273-

Location: Off State Hwy 369, which runs off of Western Ky. Parkway

Landholding Agency: COE

Property Number: 31199120010

Status: Unutilized

Reason: Floodway.

2-Car Garage

Green River Lock and Dam No. 3

Rochester Co: Butler KY 42273-

Location: Off State Hwy 369, which runs off of Western Ky. Parkway

Landholding Agency: COE

Property Number: 31199120011

Status: Unutilized

Reason: Floodway.

Office and Warehouse

Green River Lock and Dam No. 3

Rochester Co: Butler KY 42273-

Location: Off State Hwy 369, which runs off of Western Ky. Parkway

Landholding Agency: COE

Property Number: 31199120012

Status: Unutilized

Reason: Floodway.

2 Pit Toilets

Green River Lock and Dam No. 3

Rochester Co: Butler KY 42273-

Landholding Agency: COE

Property Number: 31199120013

Status: Unutilized

Reason: Floodway.

Tract 1379

Barkley Lake & Dam

Eddyville Co: Lyon KY 42038-

Landholding Agency: COE

Property Number: 31200420001

Status: Unutilized

Reason: landlocked.

Tract 4300

Barkley Lake & Dam

Cadiz Co: Trigg KY 42211-

Landholding Agency: COE

Property Number: 31200420002

Status: Unutilized

Reason: Floodway.

Tracts 317, 318, 319

Barkley Lake & Dam

Grand Rivers Co: Lyon KY 42045-

Landholding Agency: COE

Property Number: 31200420003

Status: Unutilized

Reason: Floodway.

Comfort Station

Holmes Bend Access

Green River Lake

Adair Co: KY-

Landholding Agency: COE

Property Number: 31200440005

Status: Excess

Reason: Extensive deterioration.

Steel Structure

Mcalpine Locks & Dam

Louisville Co: KY 40212-

Landholding Agency: COE

Property Number: 31200440006

Status: Excess

Reasons: Within 2000 ft. of flammable or explosive material, Floodway.

Comfort Station

Mcalpine Locks & Dam

Louisville Co: KY 40212-

Landholding Agency: COE

Property Number: 31200440007

Status: Excess

Reasons: Within 2000 ft. of flammable or explosive material, Floodway.

Shelter

Mcalpine Locks & Dam

Louisville Co: KY 40212-

Landholding Agency: COE

Property Number: 31200440008

Status: Excess

Reasons: Within 2000 ft. of flammable or explosive material, Floodway.

Parking Lot

Mcalpine Locks & Dam

Louisville Co: KY 40212-

Landholding Agency: COE

Property Number: 31200440009

Status: Excess

Reasons: Within 2000 ft. of flammable or explosive material, Floodway.

Sewage Treatment Plant

Holmes Bend Recreation

Campbellsville Co: KY 42718-9805

Landholding Agency: COE

Property Number: 31200510006

Status: Unutilized

Reason: Extensive deterioration.

Louisiana

Weeks Island Facility

New Iberia Co: LA 70560-

Landholding Agency: GSA

Property Number: 54200530005

Status: Excess

Reason: Extensive deterioration

GSA Number: 7-B-LA-0563.

Maryland

Bloody Pt Bar Lighthouse

Chesapeake Bay

Kent MD

Landholding Agency: GSA

Property Number: 54200330002

Status: Excess

Reason: not accessible

GSA Number: 4-U-MD-0612.

Bldgs. 146B, 146C, 146D, 146E

U.S. Naval Academy

Annapolis Co: Anne Arundel MD 21402-

Landholding Agency: Navy

Property Number: 77200530016

Status: Excess

Reason: Extensive deterioration.

Massachusetts

Annex 2 Bldg.

MIT Labs 246 Wood Street

Lexington Co: MA

Landholding Agency: GSA

Property Number: 54200530008

Status: Excess

Reason: Secured Area

GSA Number: 1-D-MA094.

Westview Street Wells

Lexington MA 02173-

Landholding Agency: VA

Property Number: 97199920001

Status: Unutilized

Reason: Extensive deterioration.

Michigan

U.S. Coast Guard Station

101 South Lakeshore Drive

Ludington Co: Mason MI 49431-

Landholding Agency: GSA

Property Number: 54200510012

Status: Surplus

Reason: Within 2000 ft. of flammable or explosive material GSA Number: 1-U-MI-537-D.

Admin. Bldg.

Station Saginaw River

Essexville Co: Bay MI 48732-

Landholding Agency: Coast Guard

Property Number: 88200510001

Status: Unutilized

Reasons: Secured Area, Extensive deterioration.

Minnesota

Parcel B

Twin Cities Army Ammunition Plant

Arden Hills MN 55112-3938

Landholding Agency: GSA

Property Number: 54200240015

Status: Excess

Reason: Within 2000 ft. of flammable or explosive material

GSA Number: 1-D-MN-0578B.

Mississippi

Bldg. 6

ANG CRTC

Gulfport Co: Harrison MS 39507-

Landholding Agency: Air Force

Property Number: 18200520004

Status: Unutilized

Reasons: Within 2000 ft. of flammable or explosive material

Secured Area.

Bldgs. 19-22

ANG CRTC

Gulfport Co: Harrison MS 39507-

Landholding Agency: Air Force

Property Number: 18200520005

Status: Unutilized

Reasons: Within 2000 ft. of flammable or explosive material

Secured Area.

Bldg. 38

ANG CRTC

Gulfport Co: Harrison MS 39507-

Landholding Agency: Air Force

Property Number: 18200520006

Status: Unutilized

Reasons: Within 2000 ft. of flammable or explosive material

Secured Area.

Bldg. 6, Boiler Plant

Biloxi VA Medical Center

Gulfport Co: Harrison MS 39531-

Landholding Agency: VA

Property Number: 97199410001

Status: Unutilized

Reason: Floodway.

Bldg. 67

Biloxi VA Medical Center

Gulfport Co: Harrison MS 39531-

Landholding Agency: VA

Property Number: 97199410008

Status: Unutilized

Reason: Extensive deterioration.

Bldg. 68

Biloxi VA Medical Center

Gulfport Co: Harrison MS 39531-

Landholding Agency: VA

Property Number: 97199410009

Status: Unutilized

Reason: Extensive deterioration.

Missouri

Rec Office

Harry S. Truman Dam & Reservoir

Osceola Co: St. Clair MO 64776-

Landholding Agency: COE

Property Number: 31200110001

Status: Unutilized

Reason: Extensive deterioration.

Privy/Nemo Park

Pomme de Terre Lake

Hermitage MO 65668-

Landholding Agency: COE

Property Number: 31200120001

Status: Excess

Reason: Extensive deterioration.

Privy No. 1/Bolivar Park

Pomme de Terre Lake

Hermitage MO 65668-

Landholding Agency: COE

Property Number: 31200120002

Status: Excess

Reason: Extensive deterioration.

Privy No. 2/Bolivar Park

Pomme de Terre Lake

Hermitage MO 65668-

Landholding Agency: COE

Property Number: 31200120003

Status: Excess

Reason: Extensive deterioration.

#07004, 60006, 60007

Crabtree Cove/Stockton Area

Stockton MO 65785-

Landholding Agency: COE

Property Number: 31200220007

Status: Excess

Reason: Extensive deterioration.

Bldg.

Old Mill Park Area

Stockton MO 65785-

Landholding Agency: COE

Property Number: 31200310007

Status: Excess

Reason: Extensive deterioration.

Stockton Lake Proj. Ofc.

Stockton Co: Cedar MO 65785-

Landholding Agency: COE

Property Number: 31200330004

Status: Unutilized

Reason: Extensive deterioration.

House

Tract 1105

Thurnau Mitigation Site

Craig Co: Holt MO 64437-

Landholding Agency: COE

Property Number: 31200420005

Status: Unutilized

Reason: Extensive deterioration.

30x36 Barn

Tract 1105

Thurnau Mitigation Site

Craig Co: Holt MO 64437-

Landholding Agency: COE

Property Number: 31200420006

Status: Unutilized

Reason: Extensive deterioration.

30x26 Barn

Tract 1105

Thurnau Mitigation Site

Craig Co: Holt MO 64437-

Landholding Agency: COE

Property Number: 31200420007

Status: Unutilized

Reason: Extensive deterioration.

30x10 Shed

Tract 1105

Thurnau Mitigation Site

Craig Co: Holt MO 64437-

Landholding Agency: COE

Property Number: 31200420008

Status: Unutilized

Reason: Extensive deterioration.

30x26 Shed

Tract 1105

Thurnau Mitigation Site

Craig Co: Holt MO 64437-

Landholding Agency: COE

Property Number: 31200420009

Status: Unutilized

Reason: Extensive deterioration.

9x9 Shed

Tract 1105

Thurnau Mitigation Site

Craig Co: Holt MO 64437-

Landholding Agency: COE

Property Number: 31200420010

Status: Unutilized

Reason: Extensive deterioration.

Tract 1111

Thurnau Mitigation Site

Craig Co: Holt MO 64437-

Landholding Agency: COE

Property Number: 31200420011

Status: Excess

Reason: Extensive deterioration.

Shower

Pomme de Terre Lake

Hermitage Co: Polk MO 65668-

Landholding Agency: COE

Property Number: 31200420012

Status: Unutilized

Reason: Extensive deterioration.

11 Bldgs.

Warsaw Co: MO 65355-

Location: Fairfield, Tally Bend, Cooper Creek, Shawnee Bend

Landholding Agency: COE

Property Number: 31200430013

Status: Excess

Reason: Extensive deterioration.

2 Storage Bldgs.

District Service Base

St. Louis Co: MO -

Landholding Agency: COE

Property Number: 31200430014

Status: Excess

Reason: Extensive deterioration.

Privy

Pomme de Terre Lake

Wheatland Co: Hickory MO

Landholding Agency: COE

Property Number: 31200440010

Status: Underutilized

Reason: Floodway.

Vault Toilet

Ruark Bluff

Stockton Co: MO

Landholding Agency: COE

Property Number: 31200440011

Status: Excess

Reason: Extensive deterioration.

Comfort Station

Overlook Area

Stockton Co: MO

Landholding Agency: COE

Property Number: 31200440012

Status: Excess

Reason: Extensive deterioration.

Maintenance Building

Missouri River Area

Napoleon Co: Lafayette MO 64074-

Landholding Agency: COE

Property Number: 31200510007

Status: Excess

Reason: Floodway.

Bldg. 34001

Orleans Trail Park

Stockton Co: MO 65785-

Landholding Agency: COE

Property Number: 31200510008

Status: Excess

Reason: Extensive deterioration.

Bldgs. 34016, 34017

Orleans Trail Park

Stockton Co: MO 65785-

Landholding Agency: COE

Property Number: 31200510009

Status: Excess

Reason: Extensive deterioration.

Bldg. 3

VA Medical Center

Jefferson Barracks Division

St. Louis MO 63125-

Landholding Agency: VA

Property Number: 97200340001

Status: Underutilized

Reason: Secured Area.

Bldg. 4

VA Medical Center

Jefferson Barracks Division

St. Louis MO 63125

Landholding Agency: VA

Property Number: 97200340002

Status: Underutilized

Reason: Secured Area.

Bldg. 27

VA Medical Center

Jefferson Barracks Division

St. Louis MO 63125-

Landholding Agency: VA

Property Number: 97200340003

Status: Underutilized

Reason: Secured Area.

Bldg. 28

VA Medical Center

Jefferson Barracks Division

St. Louis MO 63125-

Landholding Agency: VA

Property Number: 97200340004

Status: Underutilized

Reason: Secured Area.

Bldg. 29

VA Medical Center

Jefferson Barracks Division

St. Louis MO 63125-

Landholding Agency: VA

Property Number: 97200340005

Status: Underutilized

Reason: Secured Area.

Bldg. 50

VA Medical Center

Jefferson Barracks Division

St. Louis MO 63125-

Landholding Agency: VA

Property Number: 97200340006

Status: Underutilized

Reason: Secured Area.

Montana

Bldg. 547

Malmstrom AFB

Malmstrom AFB Co: Cascade MT 59402-

Landholding Agency: Air Force

Property Number: 18200240004

Status: Unutilized

Reasons: Within 2000 ft. of flammable or explosive material, Secured Area.

Bldg. 1084

Malmstrom AFB

Malmstrom AFB Co: Cascade MT 59402-

Landholding Agency: Air Force

Property Number: 18200240006

Status: Unutilized

Reasons: Within 2000 ft. of flammable or explosive material, Secured Area.

Bldg. 2025

Malmstrom AFB

Malmstrom AFB Co: Cascade MT 59402-

Landholding Agency: Air Force

Property Number: 18200240007

Status: Unutilized

Reason: Secured Area.

Bldg. 1700

Malmstrom AFB

Malmstrom AFB Co: Cascade MT 59402-

Landholding Agency: Air Force

Property Number: 18200330022

Status: Unutilized

Reasons: Within 2000 ft. of flammable or explosive material, Secured Area, Extensive deterioration.

Bldg. 546

Malmstrom AFB

Cascade Co: MT 59402-

Landholding Agency: Air Force

Property Number: 18200520007

Status: Unutilized

Reasons: Within 2000 ft. of flammable or explosive material, Secured Area.

Bldg. 33

Great Falls IAP

Cascade Co: MT 59404-

Landholding Agency: Air Force

Property Number: 18200530005

Status: Underutilized

Reasons: Within 2000 ft. of flammable or explosive material, Secured Area.

Bldg. 314

Great Falls IAP

Cascade Co: MT 59404-

Landholding Agency: Air Force

Property Number: 18200530006

Status: Underutilized

Reasons:

Within 2000 ft. of flammable or explosive material, Secured Area.

Nebraska

Vault Toilets

Harlan County Project

Republican NE 68971-

Landholding Agency: COE

Property Number: 31200210006

Status: Unutilized

Reason: Extensive deterioration.

Patterson Treatment Plant

Harlan County Project

Republican NE 68971-

Landholding Agency: COE

Property Number: 31200210007

Status: Unutilized

Reason: Extensive deterioration.

#30004

Harlan County Project

Republican Co: Harlan NE 68971-

Landholding Agency: COE

Property Number: 31200220008

Status: Unutilized

Reason: Extensive deterioration.

#3005, 3006

Harlan County Project

Republican Co: Harlan NE 68971-

Landholding Agency: COE

Property Number: 31200220009

Status: Unutilized

Reason: Extensive deterioration.

Bldgs. 70001, 70002

South Outlet Park

Republican City Co: NE -

Landholding Agency: COE

Property Number: 31200510010

Status: Excess

Reason: Extensive deterioration.

Nevada

6 Bldgs.

Dale Street Complex 300, 400, 500, 600, Block Bldg, Valve House

Boulder City NV 89005-

Landholding Agency: GSA

Property Number: 54200020017

Status: Excess

Reason: Extensive deterioration.

GSA Number: LC-00-01-RP

New Hampshire

CRREL Greenhouse

Lyme Road

Hanover Co: Grafton NH 03755-

Landholding Agency: GSA

Property Number: 54200520009

Status: Excess

Reason: Extensive deterioration.

GSA Number: 1-D-NH-496.

New Jersey

Former NIKE Missile Battery

Site PH-58

Woolwich Co: Gloucester NJ

Landholding Agency: GSA

Property Number: 54200310012

Status: Excess

Reason: Extensive deterioration.

GSA Number: 1-GR-NJ-0538.

New Mexico

Bldg. 14170

Cannon AFB

Cannon AFB Co: Curry NM.

Landholding Agency: Air Force

Property Number: 18200230010

Status: Unutilized

Reason: Secured Area.

Bldg. 14240

Cannon AFB

Cannon AFB NM

Landholding Agency: Air Force

Property Number: 18200230011

Status: Unutilized

Reason: Secured Area.

Bldg. 14270

Cannon AFB

Cannon AFB Co: Curry NM

Landholding Agency: Air Force

Property Number: 18200230012

Status: Unutilized

Reason: Secured Area.

Bldg. 14330

Cannon AFB

Cannon AFB Co: Curry NM

Landholding Agency: Air Force

Property Number: 18200230013

Status: Unutilized

Reason: Secured Area.

Bldg. 14350

Cannon AFB

Cannon AFB Co: Curry NM

Landholding Agency: Air Force

Property Number: 18200230014

Status: Unutilized

Reason: Secured Area.

Bldg. 14370

Cannon AFB

Cannon AFB Co: Curry NM

Landholding Agency: Air Force

Property Number: 18200230015

Status: Unutilized

Reason: Secured Area.

Bldg. 14390

Cannon AFB

Cannon AFB Co: Curry NM

Landholding Agency: Air Force

Property Number: 18200230016

Status: Unutilized

Reason: Secured Area.

Bldg. 524

Holloman AFB

Otero NM 88330-

Landholding Agency: Air Force

Property Number: 18200330024

Status: Unutilized

Reasons: Within 2000 ft. of flammable or explosive material Secured Area.

Bldg. 1076

Holloman AFB

Otero NM 88330-

Landholding Agency: Air Force

Property Number: 18200330025

Status: Unutilized

Reasons: Secured Area Extensive deterioration.

Bldg. 1190

Holloman AFB

Otero NM 88330-

Landholding Agency: Air Force

Property Number: 18200330026

Status: Unutilized

Reasons: Secured Area Extensive deterioration.

Bldg. 1264

Holloman AFB

Otero NM 88330-

Landholding Agency: Air Force

Property Number: 18200330027

Status: Unutilized

Reason: Secured Area.

Bldg. 5001

Holloman AFB

Otero NM 88330-

Landholding Agency: Air Force

Property Number: 18200330028

Status: Unutilized

Reason: Secured Area.

Bldg. 5012

Holloman AFB

Otero NM 88330-

Landholding Agency: Air Force

Property Number: 18200330029

Status: Unutilized

Reason: Secured Area.

Bldg. 615

Kirtland AFB

Kirtland AFB Co: Bernalillo NM 87117-5663

Landholding Agency: Air Force

Property Number: 18200340014

Status: Unutilized

Reasons: Secured Area Extensive deterioration.

Bldg. 736

Kirtland AFB

Kirtland AFB Co: Bernalillo NM 87117-5663

Landholding Agency: Air Force

Property Number: 18200340015

Status: Unutilized

Reason: Secured Area.

Bldg. 1013

Kirtland AFB

Kirtland AFB Co: Bernalillo NM 87117-5663

Landholding Agency: Air Force

Property Number: 18200340016

Status: Unutilized

Reason: Secured Area.

Bldg. 20419

Kirtland AFB

Kirtland AFB Co: Bernalillo NM 87117-5663

Landholding Agency: Air Force

Property Number: 18200340017

Status: Unutilized

Reason: Secured Area.

Bldgs. 29014, 29016, 29017

Kirtland AFB

Kirtland AFB Co: Bernalillo NM 87117-5663

Landholding Agency: Air Force

Property Number: 18200340018

Status: Unutilized

Reasons: Secured Area Extensive deterioration.

Bldg. 30102

Kirtland AFAB

Kirtland AFB Co: Bernalillo NM 87117-5663

Landholding Agency: Air Force

Property Number: 18200340019

Status: Unutilized

Reason: Secured Area.

Bldgs. 37532, 37534

Kirtland AFB

Kirtland AFB Co: Bernalillo NM 87117-5663

Landholding Agency: Air Force

Property Number: 18200340020

Status: Unutilized

Reasons: Secured Area Extensive deterioration.

Bldg. 57005

Kirtland AFB

Kirtland AFB Co: Bernalillo NM 87117-5663

Landholding Agency: Air Force

Property Number: 18200340021

Status: Unutilized

Reasons: Secured Area Extensive deterioration.

Bldgs. 57006, 57013

Kirtland AFB

Kirtland AFB Co: Bernalillo NM 87117-5663

Landholding Agency: Air Force

Property Number: 18200340022

Status: Unutilized

Reasons: Secured Area Extensive deterioration.

Bldgs. 10, 11

Holloman AFB

Holloman Co: Otero NM 88330-

Landholding Agency: Air Force

Property Number: 18200410005

Status: Unutilized

Reason: Secured Area.

New York

6 UG Missile Silos

Youngstown Test Annex

Porter Co: Niagara NY

Landholding Agency: Air Force

Property Number: 18200220003

Status: Unutilized

Reason: Extensive deterioration.

Bldg. 100

Youngstown Test Annex

Porter Co: Niagara NY

Landholding Agency: Air Force

Property Number: 18200220004

Status: Unutilized

Reason: Extensive deterioration.

Bldg. 101

Youngstown Test Annex

Porter Co: Niagara NY

Landholding Agency: Air Force

Property Number: 18200220005

Status: Unutilized

Reason: Extensive deterioration.

Bldg. 104

Youngstown Test Annex

Porter Co: Niagara NY

Landholding Agency: Air Force

Property Number: 18200220006

Status: Unutilized

Reason: Extensive deterioration.

Bldg. 107

Youngstown Test Annex

Porter Co: Niagara NY

Landholding Agency: Air Force

Property Number: 18200220007

Status: Unutilized

Reason: Extensive deterioration.

Bldg. 109

Youngstown Test Annex

Porter Co: Niagara NY

Landholding Agency: Air Force

Property Number: 18200220008

Status: Unutilized

Reason: Extensive deterioration.

Bldg. 116

Youngstown Test Annex

Porter Co: Niagara NY

Landholding Agency: Air Force

Property Number: 18200220009

Status: Unutilized

Reason: Extensive deterioration.

Bldg. 276

106th RQW

Westhamton Beach Co: Suffolk NY 11978-

Landholding Agency: Air Force

Property Number: 18200520008

Status: Excess

Reason: Secured Area.

Bldgs. 442, 465, 466

Hancock Field

Syracuse Co: Onondaga NY 13211-

Landholding Agency: Air Force

Property Number: 18200530007

Status: Unutilized

Reasons: Secured Area Extensive deterioration.

Warehouse

Whitney Lake Project

Whitney Point Co: Broome NY 13862-0706

Landholding Agency: COE

Property Number: 31199630007

Status: Unutilized

Reason: Extensive deterioration.

Bldgs/Pier/Field

USCG/Ft. Totten

Borough of Queens Co: Flushing NY

Landholding Agency: GSA

Property Number: 54200320015

Status: Surplus

Reason: contamination.

GSA Number: 1-U-NY-882.

North Carolina

Bldg. 9

VA Medical Center

1100 Tunnel Road

Asheville Co: Buncombe NC 28805-

Landholding Agency: VA

Property Number: 97199010008

Status: Unutilized

Reason: Extensive deterioration.

Ohio

Army Reserve Activity #56

Jack Gibbs Blvd.

Columbus Co: OH 43215-1795

Landholding Agency: GSA

Property Number: 54200520008

Status: Surplus

Reason: Extensive deterioration.

GSA Number: 1-D-OH-05832A.

Bldg. 105

VA Medical Center

Dayton Co: Montgomery OH 45428-

Landholding Agency: VA

Property Number: 97199920005

Status: Unutilized

Reason: Extensive deterioration.

Oklahoma

Comfort Station

LeFlore Landing PUA

Sallisaw Co: LeFlore OK 74955-9445

Landholding Agency: COE

Property Number: 31200240008

Status: Excess

Reason: Extensive deterioration.

Comfort Station

Braden Bend PUA

Sallisaw Co: LeFlore OK 74955-9445

Landholding Agency: COE

Property Number: 31200240009

Status: Excess

Reason: Extensive deterioration.

Water Treatment Plant

Salt Creek Cove

Sawyer Co: Choctaw OK 74756-0099

Landholding Agency: COE

Property Number: 31200240010

Status: Excess

Reason: Extensive deterioration.

Water Treatment Plant

Wilson Point

Sawyer Co: Choctaw OK 74756-0099

Landholding Agency: COE

Property Number: 31200240011

Status: Excess

Reason: Extensive deterioration.

2 Comfort Stations

Landing PUA/Juniper Point PUA

Stigler Co: McIntosh OK 74462-9440

Landholding Agency: COE

Property Number: 31200240012

Status: Excess

Reason: Extensive deterioration.

Filter Plant/Pumphouse

South PUA

Stigler Co: McIntosh OK 74462-9440

Landholding Agency: COE

Property Number: 31200240013

Status: Excess

Reason: Extensive deterioration.

Filter Plant/Pumphouse

North PUA

Stigler Co: McIntosh OK 74462-9440

Landholding Agency: COE

Property Number: 31200240014

Status: Excess

Reason: Extensive deterioration.

Filter Plant/Pumphouse

Juniper Point PUA

Stigler Co: McIntosh OK 74462-9440

Landholding Agency: COE

Property Number: 31200240015

Status: Excess

Reason: Extensive deterioration.

Comfort Station

Juniper Point PUA

Stigler Co: McIntosh OK 74462-9440

Landholding Agency: COE

Property Number: 31200240016

Status: Excess

Reason: Extensive deterioration.

Comfort Station

Brooken Cove PUA

Stigler Co: McIntosh OK 74462-9440

Landholding Agency: COE

Property Number: 31200240017

Status: Excess

Reason: Extensive deterioration.

2 Bldgs.

Outlet Channel/Walker Creek

Waurika OK 73573-0029

Landholding Agency: COE

Property Number: 31200340013

Status: Excess

Reason: Extensive deterioration.

2 Bldgs.

Damsite South

Stigler OK 74462-9440

Landholding Agency: COE

Property Number: 31200340014

Status: Excess

Reason: Extensive deterioration.

19 Bldgs.

Kaw Lake

Ponca City OK 74601-9962

Landholding Agency: COE

Property Number: 31200340015

Status: Excess

Reason: Extensive deterioration.

30 Bldgs.

Keystone Lake

Sand Springs OK 74063-9338

Landholding Agency: COE

Property Number: 31200340016

Status: Excess

Reason: Extensive deterioration.

13 Bldgs.

Oologah Lake

Oologah OK 74053-0700

Landholding Agency: COE

Property Number: 31200340017

Status: Excess

Reason: Extensive deterioration.

14 Bldgs.

Pine Creek Lake

Valliant OK 74764-9801

Landholding Agency: COE

Property Number: 31200340018

Status: Excess

Reason: Extensive deterioration.

6 Bldgs.

Sardis Lake

Clayton OK 74536-9729

Landholding Agency: COE

Property Number: 31200340019

Status: Excess

Reason: Extensive deterioration.

24 Bldgs.

Skiatook Lake

Skiatook OK 74070-9803

Landholding Agency: COE

Property Number: 31200340020

Status: Excess

Reason: Extensive deterioration.

40 Bldgs.

Eufaula Lake

Stigler OK 74462-5135

Landholding Agency: COE

Property Number: 31200340021

Status: Excess

Reason: Extensive deterioration.

2 Bldgs.

Holiday Cove

Stigler OK 74462-5135

Landholding Agency: COE

Property Number: 31200340022

Status: Excess

Reason: Extensive deterioration.

18 Bldgs.

Fort Gibson

Ft. Gibson Co: Wagoner OK 74434-0370

Landholding Agency: COE

Property Number: 31200340023

Status: Excess

Reason: Extensive deterioration.

2 Bldgs.

Fort Supply

Ft. Supply Co: Woodward OK 73841-0248

Landholding Agency: COE

Property Number: 31200340024

Status: Excess

Reason: Extensive deterioration.

Game Bird House

Fort Supply Lake

Ft. Supply Co: Woodward OK 73841-0248

Landholding Agency: COE

Property Number: 31200340025

Status: Excess

Reason: Extensive deterioration.

11 Bldgs.

Hugo Lake

Sawyer OK 74756-0099

Landholding Agency: COE

Property Number: 31200340026

Status: Excess

Reason: Extensive deterioration.

5 Bldgs.

Birch Cove/Twin Cove

Skiatook OK 74070-9803

Landholding Agency: COE

Property Number: 31200340027

Status: Excess

Reason: Extensive deterioration.

2 Bldgs.

Fairview Group Camp

Canton OK 73724-0069

Landholding Agency: COE

Property Number: 31200340028

Status: Excess

Reason: Extensive deterioration.

2 Bldgs.

Chouteau & D Bluff

Gore Co: Wagoner OK 74935-9404

Landholding Agency: COE

Property Number: 31200340029

Status: Excess

Reason: Extensive deterioration.

2 Bldgs.

Newt Graham L&D

Gore OK 74935-9404

Landholding Agency: COE

Property Number: 31200340030

Status: Excess

Reason: Extensive deterioration.

6 Bldgs.

Damsite/Fisherman's Landing

Sallisaw OK 74955-9445

Landholding Agency: COE

Property Number: 31200340031

Status: Excess

Reason: Extensive deterioration.

10 Bldgs.

Webbers Falls Lake

Gore OK 74435-5541

Landholding Agency: COE

Property Number: 31200340032

Status: Excess

Reason: Extensive deterioration.

14 Bldgs.

Copan Lake

Copan OK 74022-9762

Landholding Agency: COE

Property Number: 31200340033

Status: Excess

Reason: Extensive deterioration.

Bldg.

Lower Storage Yard

Skiatook Co: Osage OK 74070-

Landholding Agency: COE

Property Number: 31200530007

Status: Excess

Reason: Extensive deterioration.

3 Bldgs.

Birch Cove PUA

Skiatook Co: Osage OK 74070-

Landholding Agency: COE

Property Number: 31200530008

Status: Excess

Reason: Extensive deterioration.

Bldg.

Canadian Public Use Area

Canton Co: Blaine OK 73724-

Landholding Agency: COE

Property Number: 31200530009

Status: Excess

Reason: Extensive deterioration.

3 Bldgs.

Porum Landing PUA

Stigler Co: McIntosh OK 74462-

Landholding Agency: COE

Property Number: 31200530010

Status: Excess

Reason: Extensive deterioration.

2 Bldgs.

Taylor Ferry

Ft. Gibson Co: Wagoner OK 74434-

Landholding Agency: COE

Property Number: 31200530011

Status: Excess

Reason: Extensive deterioration.

2 Bldgs.

Bluff/Afton Landing

Ft. Gibson Co: Wagoner OK 74434-

Landholding Agency: COE

Property Number: 31200530012

Status: Excess

Reason: Extensive deterioration.

Bldg.

Lake Office

Ft. Supply Co: Woodward OK 73841-

Landholding Agency: COE

Property Number: 31200530013

Status: Excess

Reason: Extensive deterioration.

4 Bldgs.

Overlook PUA

Ft. Supply Co: Texas OK 73841-

Landholding Agency: COE

Property Number: 31200530014

Status: Excess

Reason: Extensive deterioration.

Bldg.

Hugo Lake

Sawyer Co: Chocktaw OK 74756-

Landholding Agency: COE

Property Number: 31200530015

Status: Excess

Reason: Extensive deterioration.

2 Bldgs.

Sarge Creek PUA

Ponca City Co: Kay OK 74601-

Landholding Agency: COE

Property Number: 31200530016

Status: Excess

Reason: Extensive deterioration.

5 Bldgs.

Hawthorne Bluff

Oologah Co: Rogers OK 74053-

Landholding Agency: COE

Property Number: 31200530017

Status: Excess

Reason: Extensive deterioration.

12 Bldgs.

Trout Stream PUAs

Gore Co: Sequoyah OK 74435-

Landholding Agency: COE

Property Number: 31200530018

Status: Excess

Reason: Extensive deterioration.

14 Bldgs.

Chicken Creek PUAs

Gore Co: Cherokee OK 74435-

Landholding Agency: COE

Property Number: 31200530019

Status: Excess

Reason: Extensive deterioration.

4 Bldgs.

Snake Creek Area

Gore Co: Sequoyah OK 74435-

Landholding Agency: COE

Property Number: 31200530020

Status: Excess

Reason: Extensive deterioration.

3 Bldgs.

Brewer's Bend

Gore Co: Muskogee OK 74435-

Landholding Agency: COE

Property Number: 31200530021

Status: Excess

Reason: Extensive deterioration.

Oregon

2 Floating Docks

Rogue River

Gold Beach Co: Curry OR 97444-

Landholding Agency: COE

Property Number: 31200430015

Status: Excess

Reason: Floodway.

2 Trailers

John Day Project

#1 West Marine Drive

Boardman Co: Morrow OR 97818-

Landholding Agency: COE

Property Number: 31200510012

Status: Unutilized

Reason: Extensive deterioration.

South Carolina

Bldg. 277

McEntire Air National Station

Eastover Co: Richland SC 29044-

Landholding Agency: Air Force

Property Number: 18200520009

Status: Unutilized

Reasons: Secured Area, Extensive deterioration.

Bldg. 277

McEntire Air Natl Station

Eastover Co: Richland SC 29044-

Landholding Agency: Air Force

Property Number: 18200530008

Status: Unutilized

Reasons: Secured Area, Extensive deterioration.

Bldg. 5

J. Strom Thurmond Project

Clarks Hill Co: McCormick SC 29821-

Landholding Agency: COE

Property Number: 31200520007

Status: Unutilized

Reason: Extensive deterioration.

Bldg. 102

Marine Corps Recruit Depot

Parris Island Co: Beaufort SC 29905-

Landholding Agency: Navy

Property Number: 77200530017

Status: Unutilized

Reasons: Floodway, Secured Area, Extensive deterioration.

South Dakota

Bldg. 6000

Ellsworth AFB

Meade Co: SD 57706-

Landholding Agency: Air Force

Property Number: 18200510021

Status: Underutilized

Reason: Secured Area.

Bldgs. 7437, 7513, 7616

Ellsworth AFB

Meade Co: SD 57706-

Landholding Agency: Air Force

Property Number: 18200530009

Status: Unutilized

Reason: Secured Area.

Mobile Home

Tract L-1295

Oahe Dam

Potter SD 00000-

Landholding Agency: COE

Property Number: 31200030001

Status: Excess

Reason: Extensive deterioration.

Tennessee

Bldg. 204

Cordell Hull Lake and Dam Project.

Defeated Creek Recreation Area

Carthage Co: Smith TN 37030-

Location: US Highway 85

Landholding Agency: COE

Property Number: 31199011499

Status: Unutilized

Reason: Floodway.

Tract 2618 (Portion)

Cordell Hull Lake and Dam Project

Roaring River Recreation Area

Gainesboro Co: Jackson TN 38562-

Location: TN Highway 135

Landholding Agency: COE

Property Number: 31199011503

Status: Underutilized

Reason: Floodway.

Water Treatment Plant

Dale Hollow Lake & Dam Project

Obey River Park, State Hwy 42

Livingston Co: Clay TN 38351-

Landholding Agency: COE

Property Number: 31199140011

Status: Excess

Reason: water treatment plant.

Water Treatment Plant

Dale Hollow Lake & Dam Project

Lillydale Recreation Area, State Hwy 53

Livingston Co: Clay TN 38351-

Landholding Agency: COE

Property Number: 31199140012

Status: Excess

Reason: water treatment plant.

Water Treatment Plant

Dale Hollow Lake & Dam Project

Willow Grove Recreational Area, Hwy No. 53

Livingston Co: Clay TN 38351-

Landholding Agency: COE

Property Number: 31199140013

Status: Excess

Reason: water treatment plant.

Comfort Station/Land

Cook Campground

Nashville Co: Davidson TN 37214-

Landholding Agency: COE

Property Number: 31200420024

Status: Unutilized

Reason: Floodway.

Tracts 915, 920, 931C-1

Cordell Hull Dam/Reservoir

Cathage Co: Smith TN 37030-

Landholding Agency: COE

Property Number: 31200430016

Status: Unutilized

Reasons: Floodway, landlocked.

Pump House/6 acres

Volunteer Army Ammo Plant

Chattanooga Co: Hamilton TN 37422-

Landholding Agency: GSA

Property Number: 54200440013

Status: Surplus

Reason: Within 2000 ft. of flammable or explosive material

GSA Number: 4DTN05943T.

Bldgs. 2, 3, 5

Naval/Marine Corps Rsv Ctr

Knoxville Co: Knox TN 37920-

Landholding Agency: Navy

Property Number: 77200530018

Status: Unutilized

Reasons: Secured Area, Extensive deterioration.

Texas

Bldg. 1307

Hensley Field ANG Station

Dallas TX 75211-9820

Landholding Agency: Air Force

Property Number: 18200330030

Status: Excess

Reason: Extensive deterioration.

Bldgs. 1155, 1188, 1275

Ellington Field

Houston Co: Harris TX 77034-

Landholding Agency: Air Force

Property Number: 18200530010

Status: Unutilized

Reason: Secured Area.

Comfort Station

Overlook PUA

Powderly Co: Lamar TX 75473-9801

Landholding Agency: COE

Property Number: 31200240018

Status: Excess

Reason: Extensive deterioration.

58 Bldgs.

Texoma Lake

Denison TX 75020-6425

Landholding Agency: COE

Property Number: 31200340035

Status: Excess

Reason: Extensive deterioration.

Bldg.

West Burns Run Park

Denison Co: Grayson TX 75020-

Landholding Agency: COE

Property Number: 31200530022

Status: Excess

Reason: Extensive deterioration.

Virginia

PHL-188855, 16498, 16693

Mize Point Campground

Bassett Co: VA 24055-

Landholding Agency: COE

Property Number: 31200510014

Status: Unutilized

Reason: Extensive deterioration.

Bldg. SP-235

Naval Station

Norfolk Co: VA 23511-

Landholding Agency: Navy

Property Number: 77200530019

Status: Excess

Reasons: Within 2000 ft. of flammable or explosive material, Secured Area.

Bldg. F11

Naval Air Station

Craney Island Fuel Terminal

Portsmouth Co: VA-

Landholding Agency: Navy

Property Number: 77200530020

Status: Excess

Reasons: Floodway, Secured Area.

Bldgs. CI33, CI34

Naval Air Station

Craney Island Fuel Terminal

Portsmouth Co: VA-

Landholding Agency: Navy

Property Number: 77200530021

Status: Excess

Reasons: Floodway, Secured Area.

4 Bldgs.

Naval Air Station

Craney Island Fuel Terminal

Portsmouth Co: VA-

Location: CI89, CI90, CI93A, CI95

Landholding Agency: Navy

Property Number: 77200530022

Status: Excess

Reasons: Floodway, Secured Area.

Bldgs. CI143, CI148, CI155

Naval Air Station

Craney Island Fuel Terminal

Portsmouth Co: VA-

Landholding Agency: Navy

Property Number: 77200530023

Status: Excess

Reasons: Floodway, Secured Area.

Bldgs. CI196, CI197, CI198

Naval Air Station

Craney Island Fuel Terminal

Portsmouth Co: VA-

Landholding Agency: Navy

Property Number: 77200530024

Status: Excess

Reasons: Floodway, Secured Area.

Bldgs. CI453, CI456

Naval Air Station

Craney Island Fuel Terminal

Portsmouth Co: VA-

Landholding Agency: Navy

Property Number: 77200530025

Status: Excess

Reasons: Floodway, Secured Area.

Training Bldg.

USCG Integrated Support Ctr

Portsmouth Co: Norfolk VA 43703-

Landholding Agency: Coast Guard

Property Number: 88200530001

Status: Excess

Reason: Secured Area.

Washington

Rec Storage Bldg.

Richland Parks

Richland Co: Benton WA 99352-

Landholding Agency: COE

Property Number: 31200240019

Status: Unutilized

Reason: Extensive deterioration.

Railroad Club Bldg.

McNary Lock & Dam Proj

Richland Co: Benton WA 99352-

Landholding Agency: COE

Property Number: 31200410006

Status: Excess

Reason: Within 2000 ft. of flammable or explosive material.

Bldg. 351

Puget Sound Naval Shipyard

Bremerton Co: WA 98314-

Landholding Agency: Navy

Property Number: 77200530026

Status: Unutilized

Reasons: Within 2000 ft. of flammable or explosive material, Secured Area.

West Virginia

Radio Transmitter Rcv Site

Greenbrier Street

Charleston WV 25311-

Landholding Agency: GSA

Property Number: 54200340011

Status: Excess

Reason: Within 2000 ft. of flammable or explosive material

GSA Number: 4-U-WV-0547.

Wyoming

Bldg. 360

F. E. Warren AFB

Cheyenne Co: Laramie WY 82005-5000

Landholding Agency: Air Force

Property Number: 18200240013

Status: Unutilized

Reasons: Secured Area, Extensive deterioration.

Bldg. 354

F. E. Warren AFB

Laramie Co: WY 82005-

Landholding Agency: Air Force

Property Number: 18200510022

Status: Underutilized

Reason: Secured Area.

Land (by State)

Alabama

Portions/Tract B263

Demopolis Hwy 43

Greene Co: AL

Landholding Agency: GSA

Property Number: 54200510001

Status: Excess

Reason: Landlocked

GSA Number: 4-D-AL-0564J.

Arizona

58 acres

VA Medical Center

500 Highway 89 North

Prescott Co: Yavapai AZ 86313-

Landholding Agency: VA

Property Number: 97190630001

Status: Unutilized

Reason: Floodway.

20 acres

VA Medical Center

500 Highway 89 North

Prescott Co: Yavapai AZ 86313-

Landholding Agency: VA

Property Number: 97190630002

Status: Underutilized

Reason: Floodway.

Colorado

Landfill

48th & Holly Streets

Commerce Co: Adams CO 80022-

Landholding Agency: GSA

Property Number: 54200220006

Status: Surplus

Reasons: Within 2000 ft. of flammable or explosive material contamination

GSA Number: 7-Z-CO-0647.

55 Acres

Denver Federal Center

Lakewood Co: Jefferson CO 80225-

Landholding Agency: GSA

Property Number: 54200530004

Status: Surplus

Reason: Within 2000 ft. of flammable or explosive material

GSA Number: 7-G-CO-0441-6.

Florida

Navy Site Alpha

Homestead Co: Miami/Dade FL

Landholding Agency: GSA

Property Number: 54200330009

Status: Surplus

Reason: Flooding

GSA Number: 4-N-FL-1079.

Wildlife Sanctuary, VAMC

10,000 Bay Pines Blvd.

Bay Pines Co: Pinellas FL 33504-

Landholding Agency: VA

Property Number: 97199230004

Status: Underutilized

Reason: Inaccessible.

Kentucky

Tract 4626

Barkley Lake, Kentucky and Tennessee

Donaldson Creek Launching Area

Cadiz Co: Trigg KY 42211-

Location: 14 miles from U.S. Highway 68

Landholding Agency: COE

Property Number: 31199010030

Status: Underutilized

Reason: Floodway.

Tract AA-2747

Wolf Creek Dam and Lake Cumberland

US HWY. 27 to Blue John Road

Burnside Co: Pulaski KY 42519-

Landholding Agency: COE

Property Number: 31199010038

Status: Underutilized

Reason: Floodway.

Tract AA-2726

Wolf Creek Dam and Lake Cumberland

KY HWY. 80 to Route 769

Burnside Co: Pulaski KY 42519-

Landholding Agency: COE

Property Number: 31199010039

Status: Underutilized

Reason: Floodway.

Tract 1358

Barkley Lake, Kentucky and Tennessee

Eddyville Recreation Area

Eddyville Co: Lyon KY 42038-

Location: US Highway 62 to state highway 93

Landholding Agency: COE

Property Number: 31199010043

Status: Excess

Reason: Floodway.

Red River Lake Project

Stanton Co: Powell KY 40380-

Location: Exit Mr. Parkway at the Stanton and Slade Interchange, then take SR Hand 15 north to SR 613

Landholding Agency: COE

Property Number: 31199011684

Status: Unutilized

Reason: Floodway.

Barren River Lock & Dam No. 1

Richardsville Co: Warren KY 42270-

Landholding Agency: COE

Property Number: 31199120008

Status: Unutilized

Reason: Floodway.

Green River Lock & Dam No. 3

Rochester Co: Butler KY 42273-

Location: Off State Hwy. 369, which runs off of Western Ky. Parkway

Landholding Agency: COE

Property Number: 31199120009

Status: Unutilized

Reason: Floodway.

Green River Lock & Dam No. 4

Woodbury Co: Butler KY 42288-

Location: Off State Hwy 403, which is off State Hwy 231

Landholding Agency: COE

Property Number: 31199120014

Status: Underutilized

Reason: Floodway.

Green River Lock & Dam No. 5

Readville Co: Butler KY 42275-

Location: Off State Highway 185

Landholding Agency: COE

Property Number: 31199120015

Status: Unutilized

Reason: Floodway.

Green River Lock & Dam No. 6

Brownsville Co: Edmonson KY 42210-

Location: Off State Highway 259

Landholding Agency: COE

Property Number: 31199120016

Status: Underutilized

Reason: Floodway.

Vacant land west of locksite

Greenup Locks and Dam

5121 New Dam Road

Rural Co: Greenup KY 41144-

Landholding Agency: COE

Property Number: 31199120017

Status: Unutilized

Reason: Floodway.

Maryland

Tract 131R

Youghiogheny River Lake, Rt. 2, Box 100

Friendsville Co: Garrett MD

Landholding Agency: COE

Property Number: 31199240007

Status: Underutilized

Reason: Floodway.

Minnesota

Parcel A

Twin Cities Army Ammunition Plant

Arden Hills MN 55112-3938

Landholding Agency: GSA

Property Number: 54200240014

Status: Excess

Reason: Within 2000 ft. of flammable or explosive material.

GSA Number: 1-D-MN-0578A.

3.85 acres (Area #2)

VA Medical Center

4801 8th Street

St. Cloud Co: Stearns MN 56303-

Landholding Agency: VA

Property Number: 97199740004

Status: Unutilized

Reason: landlocked.

7.48 acres (Area #1)

VA Medical Center

4801 8th Street

St. Cloud Co: Stearns MN 56303-

Landholding Agency: VA

Property Number: 97199740005

Status: Underutilized

Reason: Secured Area.

Mississippi

Parcel 1

Grenada Lake

Section 20

Grenada Co: Grenada MS 38901-0903

Landholding Agency: COE

Property Number: 31199011018

Status: Underutilized

Reason: Within airport runway clear zone.

Missouri

Ditch 19, Item 2, Tract No. 230

St. Francis Basin Project

2½ miles west of Malden

Co: Dunklin MO

Landholding Agency: COE

Property Number: 31199130001

Status: Unutilized

Reason: Floodway.

Montana

Sewage Lagoons/40 acres

VA Center

Ft. Harrison MT 59639-

Landholding Agency: VA

Property Number: 97200340007

Status: Excess

Reason: Floodway.

New York

Tract 1

VA Medical Center

Bath Co: Steuben NY 14810-

Location: Exit 38 off New York State Route 17.

Landholding Agency: VA

Property Number: 97199010011

Status: Unutilized

Reason: Secured Area.

Tract 2

VA Medical Center

Bath Co: Steuben NY 14810-

Location: Exit 38 off New York State Route 17.

Landholding Agency: VA

Property Number: 97199010012

Status: Underutilized

Reason: Secured Area.

Tract 3

VA Medical Center

Bath Co: Steuben NY 14810-

Location: Exit 38 off New York State Route 17.

Landholding Agency: VA

Property Number: 97199010013

Status: Underutilized

Reason: Secured Area.

Tract 4

VA Medical Center

Bath Co: Steuben NY 14810-

Location: Exit 38 off New York State Route 17.

Landholding Agency: VA

Property Number: 97199010014

Status: Unutilized

Reason: Secured Area.

Ohio

Mosquito Creek Lake

Everett Hull Road Boat Launch

Cortland Co: Trumbull OH 44410-9321

Landholding Agency: COE

Property Number: 31199440007

Status: Underutilized

Reason: Floodway.

Mosquito Creek Lake

Housel—Craft Rd., Boat Launch

Cortland Co: Trumbull OH 44410-9321

Landholding Agency: COE

Property Number: 31199440008

Status: Underutilized

Reason: Floodway.

36 Site Campground

German Church Campground

Berlin Center Co: Portage OH 44401-9707

Landholding Agency: COE

Property Number: 31199810001

Status: Unutilized

Reason: Floodway.

Pennsylvania

Lock and Dam #7

Monongahela River

Greensboro Co: Greene PA

Location: Left hand side of entrance roadway to project.

Landholding Agency: COE

Property Number: 31199011564

Status: Unutilized

Reason: Floodway.

Mercer Recreation Area

Shenango Lake

Transfer Co: Mercer PA 16154-

Landholding Agency: COE

Property Number: 31199810002

Status: Unutilized

Reason: Floodway.

Tract No. B-212C

Upstream from Gen. Jadwin Dam & Reservoir

Honesdale Co: Wayne PA 18431-

Landholding Agency: COE

Property Number: 31200020005

Status: Unutilized

Reason: Floodway.

Puerto Rico

Parcel 2R

Naval Security Group

Sabana Seca Co: Toa Baja PR-

Landholding Agency: GSA

Property Number: 54200210025

Status: Excess

Reason: Within 2000 ft. of flammable or explosive material

GSA Number: 1-N-PR-494.

Landfill Parcel

Naval Security Group

Sabana Sera

Toa Baja Co: PR

Landholding Agency: GSA

Property Number: 54200520015

Status: Excess

Reason: Within 2000 ft. of flammable or explosive material

GSA Number: 1-N-PR-0513-1D.

Tennessee

Brooks Bend

Cordell Hull Dam and Reservoir

Highway 85 to Brooks Bend Road

Gainesboro Co: Jackson TN 38562-

Location: Tracts 800, 802-806, 835-837, 900-902, 1000-1003, 1025

Landholding Agency: COE

Property Number: 21199040413

Status: Underutilized

Reason: Floodway.

Cheatham Lock and Dam

Highway 12

Ashland City Co: Cheatham TN 37015-

Location: Tracts E-513, E-512-1 and E-512-2

Landholding Agency: COE

Property Number: 21199040415

Status: Underutilized

Reason: Floodway.

Tract 2321

J. Percy Priest Dam and Reservoir

Murfreesboro Co: Rutherford TN 37130-

Location: South of Old Jefferson Pike

Landholding Agency: COE

Property Number: 31199010935

Status: Excess

Reason: landlocked.

Tract 6737

Blue Creek Recreation Area

Barkley Lake, Kentucky and Tennessee

Dover Co: Stewart TN 37058-

Location: U.S. Highway 79/TN Highway 761

Landholding Agency: COE

Property Number: 31199011478

Status: Underutilized

Reason: Floodway.

Tracts 3102, 3105, and 3106

Brimstone Launching Area

Cordell Hull Lake and Dam Project

Gainesboro Co: Jackson TN 38562-

Location: Big Bottom Road

Landholding Agency: COE

Property Number: 31199011479

Status: Excess

Reason: Floodway.

Tract 3507

Proctor Site

Cordell Hull Lake and Dam Project

Celina Co: Clay TN 38551-

Location: TN Highway 52

Landholding Agency: COE

Property Number: 31199011480

Status: Unutilized

Reason: Floodway.

Tract 3721

Obey

Cordell Hull Lake and Dam Project

Celina Co: Clay TN 38551-

Location: TN Highway 53

Landholding Agency: COE

Property Number: 31199011481

Status: Unutilized

Reason: Floodway.

Tracts 608, 609, 611 and 612

Sullivan Bend Launching Area

Cordell Hull Lake and Dam Project

Carthage Co: Smith TN 37030-

Location: Sullivan Bend Road

Landholding Agency: COE

Property Number: 31199011482

Status: Underutilized

Reason: Floodway.

Tract 920

Indian Creek Camping Area

Cordell Hull Lake and Dam Project

Granville Co: Smith TN 38564-

Location: TN Highway 53

Landholding Agency: COE

Property Number: 31199011483

Status: Underutilized

Reason: Floodway.

Tracts 1710, 1716 and 1703

Flynns Lick Launching Ramp

Cordell Hull Lake and Dam Project

Gainesboro Co: Jackson TN 38562-

Location: Whites Bend Road

Landholding Agency: COE

Property Number: 31199011484

Status: Underutilized

Reason: Floodway.

Tract 1810

Wartrace Creek Launching Ramp

Cordell Hull Lake and Dam Project

Gainesboro Co: Jackson TN 38551-

Location: TN Highway 85

Landholding Agency: COE

Property Number: 31199011485

Status: Underutilized

Reason: Floodway.

Tract 2524

Jennings Creek

Cordell Hull Lake and Dam Project

Gainesboro Co: Jackson TN 38562-

Location: TN Highway 85

Landholding Agency: COE

Property Number: 31199011486

Status: Unutilized

Reason: Floodway.

Tracts 2905 and 2907

Webster

Cordell Hull Lake and Dam Project

Gainesboro Co: Jackson TN 38551-

Location: Big Bottom Road

Landholding Agency: COE

Property Number: 31199011487

Status: Unutilized

Reason: Floodway.

Tracts 2200 and 2201

Gainesboro Airport

Cordell Hull Lake and Dam Project

Gainesboro Co: Jackson TN 38562-

Location: Big Bottom Road

Landholding Agency: COE

Property Number: 31199011488

Status: Underutilized

Reasons: Within airport runway clear zone, Floodway.

Tracts 710C and 712C

Sullivan Island

Cordell Hull Lake and Dam Project

Carthage Co: Smith TN 37030-

Location: Sullivan Bend Road

Landholding Agency: COE

Property Number: 31199011489

Status: Unutilized

Reason: Floodway.

Tract 2403, Hensley Creek

Cordell Hull Lake and Dam Project

Gainesboro Co: Jackson TN 38562-

Location: TN Highway 85

Landholding Agency: COE

Property Number: 31199011490

Status: Unutilized

Reason: Floodway.

Tracts 2117C, 2118 and 2120

Cordell Hull Lake and Dam Project

Trace Creek

Gainesboro Co: Jackson TN 38562-

Location: Brooks Ferry Road

Landholding Agency: COE

Property Number: 31199011491

Status: Unutilized

Reason: Floodway.

Tracts 424, 425 and 426

Cordell Hull Lake and Dam Project

Stone Bridge

Carthage Co: Smith TN 37030-

Location: Sullivan Bend Road

Landholding Agency: COE

Property Number: 31199011492

Status: Unutilized

Reason: Floodway.

Tract 517

J. Percy Priest Dam and Reservoir

Suggs Creek Embayment

Nashville Co: Davidson TN 37214-

Location: Interstate 40 to S. Mount Juliet Road

Landholding Agency: COE

Property Number: 31199011493

Status: Underutilized

Reason: Floodway.

Tract 1811

West Fork Launching Area

Smyrna Co: Rutherford TN 37167-

Location: Florence Road near Enon Springs Road

Landholding Agency: COE

Property Number: 31199011494

Status: Underutilized

Reason: Floodway.

Tract 1504

J. Perry Priest Dam and Reservoir

Lamon Hill Recreation Area

Smyrna Co: Rutherford TN 37167-

Location: Lamon Road

Landholding Agency: COE

Property Number: 31199011495

Status: Underutilized

Reason: Floodway.

Tract 1500

J. Perry Priest Dam and Reservoir

Pools Knob Recreation

Smyrna Co: Rutherford TN 37167-

Location: Jones Mill Road

Landholding Agency: COE

Property Number: 31199011496

Status: Underutilized

Reason: Floodway.

Tracts 245, 257, and 256

J. Perry Priest Dam and Reservoir

Cook Recreation Area

Nashville Co: Davidson TN 37214-

Location: 2.2 miles south of Interstate 40 near Saunders Ferry Pike

Landholding Agency: COE

Property Number: 31199011497

Status: Underutilized

Reason: Floodway.

Tracts 107, 109 and 110

Cordell Hull Lake and Dam Project

Two Prong

Carthage Co: Smith TN 37030-

Location: US Highway 85

Landholding Agency: COE

Property Number: 31199011498

Status: Unutilized

Reason: Floodway.

Tracts 2919 and 2929

Cordell Hull Lake and Dam Project

Sugar Creek

Gainesboro Co: Jackson TN 38562-

Location: Sugar Creek Road

Landholding Agency: COE

Property Number: 31199011500

Status: Unutilized

Reason: Floodway.

Tracts 1218 and 1204

Cordell Hull Lake and Dam Project

Granville—Alvin Yourk Road

Granville Co: Jackson TN 38564-

Landholding Agency: COE

Property Number: 31199011501

Status: Unutilized

Reason: Floodway.

Tract 2100

Cordell Hull Lake and Dam Project

Galbreaths Branch

Gainesboro Co: Jackson TN 38562-

Location: TN Highway 53

Landholding Agency: COE

Property Number: 31199011502

Status: Unutilized

Reason: Floodway.

Tract 104 et al.

Cordell Hull Lake and Dam Project

Horshoe Bend Launching Area

Carthage Co: Smith TN 37030-

Location: Highway 70 N

Landholding Agency: COE

Property Number: 31199011504

Status: Underutilized

Reason: Floodway.

Tracts 510, 511, 513 and 514

J. Percy Priest Dam and Reservoir Project

Lebanon Co: Wilson TN 37087-

Location: Vivrett Creek Launching Area, Alvin Sperry Road

Landholding Agency: COE

Property Number: 31199120007

Status: Underutilized

Reason: Floodway.

Tract A-142, Old Hickory Beach

Old Hickory Blvd.

Old Hickory Co: Davidson TN 37138-

Landholding Agency: COE

Property Number: 31199130008

Status: Underutilized

Reason: Floodway.

Tract D, 7 acres

Cheatham Lock & Dam

Nashville Co: Davidson TN 37207-

Landholding Agency: COE

Property Number: 31200020006

Status: Underutilized

Reason: Floodway.

Tract F-608

Cheatham Lock & Dam

Ashland Co: Cheatham TN 37015-

Landholding Agency: COE

Property Number: 31200420021

Status: Unutilized

Reason: Floodway.

Tracts G702-G706

Cheatham Lock & Dam

Ashland Co: Cheatham TN 37015-

Landholding Agency: COE

Property Number: 31200420022

Status: Unutilized

Reason: Floodway.

6 Tracts

Shutes Branch Campground

Lakewood Co: Wilson TN—

Landholding Agency: COE

Property Number: 31200420023

Status: Unutilized

Reason: Floodway.

51 acres

Volunteer Army Ammo Plant

Chattanooga Co: Hamilton TN 37422-

Landholding Agency: GSA

Property Number: 54200440014

Status: Surplus

Reason: contamination

GSA Number: 4DTN05943V.

11 acres

Volunteer Army Ammo Plant

Chattanooga Co: Hamilton TN 37422-

Landholding Agency: GSA

Property Number: 54200440015

Status: Surplus

Reason: contamination

GSA Number: 4DTN05943W.

Texas

Tracts 104, 105-1, 105-2 & 118

Joe Pool Lake

Co: Dallas TX

Landholding Agency: COE

Property Number: 31199010397

Status: Underutilized

Reason: Floodway.

Part of Tract 201-3

Joe Pool Lake

Co: Dallas TX

Landholding Agency: COE

Property Number: 31199010398

Status: Underutilized

Reason: Floodway.

Part of Tract 323

Joe Pool Lake

Co: Dallas TX

Landholding Agency: COE

Property Number: 31199010399

Status: Underutilized

Reason: Floodway.

Tract 702-3

Granger Lake

Route 1, Box 172

Granger Co: Williamson TX 76530-9801

Landholding Agency: COE

Property Number: 31199010401

Status: Unutilized

Reason: Floodway.

Tract 706

Granger Lake

Route 1, Box 172

Granger Co: Williamson TX 76530-9801

Landholding Agency: COE

Property Number: 31199010402

Status: Unutilized

Reason: Floodway.

Virginia

275.390 acres

adjacent/Ft. Lee Military Rsv.

Petersburg Co: Prince George VA

Landholding Agency: GSA

Property Number: 54200430017

Status: Surplus

Reason: Secured Area

GSA Number: 4-GR-VA-545E.

Washington

2.8 acres

Tract P-1003

Kennewick Co: Benton WA 99336-

Landholding Agency: COE

Property Number: 31200240020

Status: Excess

Reason: Within 2000 ft. of flammable or explosive material.

West Virginia

Morgantown Lock and Dam

Box 3 RD # 2

Morgantown Co: Monongahelia WV 26505-

Landholding Agency: COE

Property Number: 31199011530

Status: Unutilized

Reason: Floodway.

London Lock and Dam

Route 60 East

Rural Co: Kanawha WV 25126-

Location: 20 miles east of Charleston, W. Virginia.

Landholding Agency: COE

Property Number: 31199011690

Status: Unutilized

Reason: .03 acres; very narrow strip of land.

Portion of Tract #101

Buckeye Creek

Sutton Co: Braxton WV 26601-

Landholding Agency: COE

Property Number: 31199810006

Status: Excess

Reason: inaccessible.

Wisconsin

Land

Badger Army Ammunition Plant

Baraboo Co: Sauk WI 53913-

Location: Vacant land within plant boundaries.

Landholding Agency: GSA

Property Number: 21199013783

Status: Excess

Reason: Secured Area

GSA Number: GSA-WI.

[FR Doc. 05-17243 Filed 9-1-05; 8:45 am]

BILLING CODE 4210-29-P